DEPARTMENT OF COMMERCE

Census Bureau

[Docket Number: 221130-0255]

RIN 0607-XC067

2020 Census Qualifying Urban Areas and Final Criteria Clarifications

AGENCY: Census Bureau, Department of Commerce.

ACTION: Notice, technical clarifications.

SUMMARY: The Bureau of the Census (Census Bureau) delineates urban areas after each decennial census for the purpose of tabulating and presenting data for the urban and rural population and housing within the United States, Puerto Rico, and the Island Areas. The Census Bureau delineated the 2020 urban areas based on 2020 Census of Population and Housing counts and density calculations. The Census Bureau's delineation of 2020 urban areas also accounted for non-residential urban land uses, such as commercial, industrial, transportation, and open space that are part of the urban landscape as outlined in the urban area criteria published in the Federal Register on March 24, 2022. This Notice provides the list of areas that qualified as urban based on the results of the 2020 Census for the United States, Puerto Rico, and the Island Areas. The designation of “rural” encompasses any population, housing, and territory not included in an urban area. Publication of this Notice constitutes the Census Bureau's official announcement of the list of qualifying urban areas for reference by all data users. This Notice also provides clarifications to the Census Bureau's criteria for defining urban areas as published in the Federal Register on March 24, 2022. The clarifications make the criteria easier to understand and interpret consistently and are in accordance with the Census Bureau's concept and delineation of urban areas for the 2020 Census.

FOR FURTHER INFORMATION CONTACT: Vincent Osier, Geography Division, U.S. Census Bureau, via email at geo.urban@census.gov or telephone at 301-763-1128.

SUPPLEMENTARY INFORMATION: The Census Bureau defines urban areas using an objective and nationally consistent approach designed to meet the analysis needs of a broad range of users interested in the definition of, and data for, urban and rural communities for statistical purposes. The Census Bureau recognizes that some federal and state agencies use this urban-rural classification for allocating program funds, setting program standards, and implementing aspects of their various programs. The agencies that use the classification and data for such non-statistical purposes should be aware that these clarifications to the urban area criteria may affect the implementation of their programs.

While the Census Bureau is not responsible for the use of its urban-rural classification in non-statistical programs, we will work with tribal, federal, state, and local agencies and other stakeholders as appropriate, to ensure understanding of our classification. Agencies using the classification for their programs are responsible for ensuring that the classification is appropriate for their use.

On March 24, 2022, the Census Bureau published the criteria, Urban Area Criteria for the 2020 Census—Final Criteria (87 FR 16706) for the delineation of the 2020 Census urban areas. Upon additional review, the Census Bureau determined that clarification and additional information were needed to enable a better understanding of the process the Census Bureau used to define the final 2020 Census urban areas. The clarifications are informed by the Census Bureau's experience in delineating urban areas and by questions from the public. These clarifications make the criteria easier to understand, provide consistent interpretation, and ensure the criteria are in accordance with the delineation of the 2020 Census urban areas.

Urban Areas

This section of the Notice provides the list of the 2020 Census urban areas.

As a result of the 2020 Census, there are 2,646 urban areas: 2,613 urban areas in the United States, 26 in Puerto Rico, and 7 in the Island Areas.¹

¹ The Island Areas are American Samoa, Guam, the Commonwealth of the Northern Mariana Islands, and the U.S. Virgin Islands.

A. List of 2020 Census Urban Areas in the United States, Puerto Rico, and the Island Areas

An alphabetical list of all qualifying urban areas follows. All data included relate to data reported for the 2020 Census.

Urban area | Population | Housing | Land area (square miles)
Abbeville, LA | 18,078 | 8,521 | 11.1
Abbeville, SC | 4,940 | 2,453 | 4.9
Aberdeen, SD | 27,982 | 13,246 | 13.9
Aberdeen, WA | 26,603 | 11,561 | 11.0
Abilene, KS | 6,605 | 3,216 | 3.6
Abilene, TX | 118,138 | 50,514 | 62.0
Ada, OH | 5,343 | 1,984 | 2.1
Ada, OK | 17,264 | 8,654 | 14.2
Adairsville, GA | 5,799 | 2,287 | 5.4
Adel, GA | 7,034 | 2,965 | 6.1
Adel, IA | 5,674 | 2,250 | 2.7
Adjuntas, PR | 8,008 | 3,687 | 4.9
Adrian, MI | 29,206 | 11,726 | 13.4
Agat—Apra Harbor, GU | 8,712 | 2,881 | 4.0
Aguadilla—Isabela—San Sebastián, PR | 232,573 | 114,369 | 187.3
Ahoskie, NC | 4,861 | 2,308 | 3.3
Aibonito, PR | 20,255 | 9,140 | 13.3
Akron, OH | 541,879 | 251,080 | 300.6
Alamogordo, NM | 30,801 | 15,200 | 13.7
Alamosa, CO | 10,965 | 4,656 | 7.7
Albany, GA | 85,960 | 39,864 | 66.5
Albany, OR | 62,074 | 25,245 | 23.0
Albany—Schenectady, NY | 593,142 | 272,369 | 271.3
Albemarle, NC | 16,988 | 7,840 | 16.7
Albert Lea, MN | 17,992 | 8,366 | 10.8
Albertville, AL | 38,476 | 15,505 | 34.8
Albion, MI | 8,133 | 3,472 | 4.7
Albion, NY | 7,216 | 2,746 | 2.9
Albuquerque, NM | 769,837 | 335,464 | 263.1
Alexander City, AL | 8,920 | 4,428 | 9.8
Alexandria, IN | 6,140 | 2,955 | 3.8
Alexandria, LA | 78,305 | 35,538 | 64.7
Alexandria, MN | 18,957 | 9,895 | 22.6
Algona, IA | 5,443 | 2,684 | 3.4
Alice, TX | 19,413 | 7,966 | 10.0
Allegan, MI | 7,247 | 3,137 | 6.9
Allendale, MI | 25,094 | 8,006 | 10.5
Allentown—Bethlehem, PA—NJ | 621,703 | 251,480 | 261.5
Alliance, NE | 8,119 | 3,956 | 4.9
Alliance, OH | 30,944 | 14,282 | 17.3
Alma—St. Louis, MI | 17,417 | 5,455 | 9.0
Alpena, MI | 15,425 | 8,062 | 12.7
Alpine, CA | 13,307 | 5,022 | 9.8
Alpine, TX | 6,283 | 3,292 | 4.3
Altavista, VA | 4,597 | 2,250 | 5.9
Alton, IL | 79,260 | 38,052 | 59.7
Altoona, PA | 74,426 | 34,467 | 37.0
Altus, OK | 18,870 | 9,194 | 15.7
Alva, OK | 5,145 | 2,637 | 3.6
Alvarado, TX | 5,034 | 1,869 | 3.0
Amarillo, TX | 205,860 | 87,615 | 84.0
Americus, GA | 17,407 | 7,609 | 11.0
Ames, IA | 66,342 | 27,846 | 22.4
Amherst Town—Northampton—Easthampton Town, MA | 90,570 | 35,432 | 54.7
Amory, MS | 5,977 | 2,952 | 5.6
Amsterdam, NY | 21,753 | 10,808 | 10.1
Anaconda-Deer Lodge County, MT | 6,697 | 3,828 | 2.6
Anacortes, WA | 18,529 | 8,883 | 9.9
Anadarko, OK | 5,005 | 2,252 | 2.1
Anamosa, IA | 5,411 | 2,093 | 2.6
Anchorage Northeast, AK | 29,561 | 11,251 | 17.7
Anchorage, AK | 249,252 | 101,938 | 91.7
Andalusia, AL | 6,391 | 3,351 | 6.9
Anderson, IN | 79,517 | 36,893 | 52.2
Anderson—Clemson, SC | 118,369 | 50,811 | 95.9
Andrews, TX | 15,201 | 5,797 | 9.5
Angleton, TX | 19,866 | 8,221 | 10.9
Angola, IN | 12,686 | 6,728 | 12.4
Ann Arbor, MI | 317,689 | 137,325 | 143.5
Anna, IL | 6,068 | 2,749 | 4.4
Anniston—Oxford, AL | 78,302 | 35,959 | 78.9
Antigo, WI | 8,071 | 4,130 | 4.8
Antioch, CA | 326,205 | 104,264 | 73.3
Appleton, WI | 230,967 | 98,811 | 107.8
Arab, AL | 7,849 | 3,494 | 8.7
Aransas Pass—Port Aransas—Ingleside, TX | 21,868 | 13,912 | 24.6
Arcadia, FL | 16,128 | 7,287 | 10.0
Arcata, CA | 19,714 | 8,796 | 7.9
Ardmore, OK | 21,403 | 10,020 | 15.0
Arecibo, PR | 123,724 | 59,095 | 75.5
Arizona City, AZ | 9,640 | 4,466 | 4.3
Arkadelphia, AR | 10,086 | 4,205 | 6.2
Arkansas City, KS | 11,878 | 5,372 | 6.8
Arlington, TN | 14,230 | 4,634 | 7.7
Arroyo Grande—Grover Beach—Pismo Beach, CA | 50,885 | 25,235 | 17.1
Artesia, NM | 14,149 | 5,937 | 6.8
Arvin, CA | 19,385 | 4,870 | 2.3
Asbury Lake—Middleburg, FL | 23,649 | 8,746 | 23.0
Ashburn, GA | 4,738 | 2,086 | 4.2
Asheboro, NC | 37,523 | 16,252 | 27.4
Asheville, NC | 285,776 | 138,374 | 248.6
Ashland, OH | 19,206 | 8,954 | 9.9
Ashland, PA | 4,249 | 2,530 | 1.4
Ashland, WI | 7,225 | 3,543 | 4.2
Ashtabula, OH | 27,421 | 14,439 | 21.7
Ashville, OH | 6,670 | 2,715 | 3.8
Aspen, CO | 7,674 | 6,597 | 5.2
Astoria, OR | 15,825 | 7,690 | 9.7
Atchison, KS | 10,907 | 4,385 | 5.4
Athens, AL | 23,204 | 10,492 | 20.1
Athens, OH | 27,355 | 10,036 | 9.5
Athens, TN | 15,724 | 7,179 | 15.5
Athens, TX | 12,050 | 4,960 | 9.3
Athens-Clarke County, GA | 143,213 | 60,979 | 91.8
Athol, MA | 13,557 | 6,243 | 10.6
Atlanta, GA | 4,999,259 | 1,998,084 | 2,450.5
Atlanta, TX | 5,531 | 2,659 | 6.8
Atlantic City—Ocean City—Villas, NJ | 294,921 | 201,613 | 162.9
Atlantic, IA | 6,608 | 3,309 | 4.5
Atmore, AL | 6,390 | 3,151 | 5.1
Atoka, TN | 13,056 | 4,834 | 9.9
Au Gres, MI | 1,869 | 2,201 | 4.0
Aubrey, TX | 5,116 | 1,963 | 2.7
Auburn, AL | 100,842 | 44,840 | 61.2
Auburn, CA | 31,371 | 13,842 | 17.2
Auburn, IN | 20,346 | 8,813 | 9.9
Auburn, NY | 31,433 | 15,338 | 13.1
Augusta, KS | 9,231 | 4,004 | 3.7
Augusta, ME | 24,005 | 12,627 | 21.9
Augusta-Richmond County, GA—SC | 431,480 | 184,589 | 273.3
Aurora, MO | 7,466 | 3,488 | 5.3
Austin, MN | 25,479 | 10,764 | 10.0
Austin, TX | 1,809,888 | 765,527 | 619.6
Avalon, CA | 3,362 | 2,165 | 1.2
Avenal, CA | 13,304 | 2,480 | 3.6
Aztec, NM | 7,301 | 3,446 | 6.8
Bainbridge, GA | 13,857 | 6,070 | 10.7
Baker City, OR | 9,768 | 4,509 | 4.5
Bakersfield, CA | 570,235 | 186,629 | 132.1
Baltimore, MD | 2,212,038 | 944,161 | 654.9
Bandon, OR | 4,104 | 2,514 | 4.9
Bangor, ME | 61,539 | 28,723 | 51.1
Baraboo, WI | 14,201 | 6,569 | 6.8
Barbourville, KY | 5,998 | 2,744 | 5.3
Barceloneta—Florida—Bajadero, PR | 65,070 | 29,534 | 41.7
Bardstown, KY | 17,682 | 7,738 | 13.4
Barnesville, GA | 6,825 | 2,796 | 5.8
Barnstable Town, MA | 303,269 | 195,668 | 341.3
Barre—Montpelier, VT | 20,014 | 10,096 | 14.4
Barstow, CA | 30,522 | 11,453 | 12.4
Bartlesville, OK | 39,479 | 18,237 | 19.8
Bartow, FL | 16,948 | 7,166 | 7.9
Basalt, CO | 8,127 | 3,458 | 3.6
Bastrop, LA | 12,604 | 5,701 | 10.3
Bastrop, TX | 19,384 | 7,798 | 18.1
Batavia, NY | 17,472 | 8,308 | 8.1
Batesburg-Leesville, SC | 4,989 | 2,342 | 5.6
Batesville, AR | 10,913 | 4,724 | 7.8
Batesville, IN | 7,941 | 3,285 | 5.5
Batesville, MS | 6,273 | 2,643 | 6.3
Bath, NY | 6,335 | 3,264 | 2.9
Baton Rouge, LA | 631,326 | 273,965 | 396.3
Battle Creek, MI | 75,513 | 34,049 | 47.3
Battlement Mesa, CO | 6,311 | 2,571 | 3.1
Baxley, GA | 5,354 | 2,482 | 6.3
Bay City, MI | 68,472 | 33,037 | 39.9
Bay City, TX | 19,311 | 8,683 | 10.4
Bay Minette, AL | 7,685 | 3,118 | 7.0
Bayard, NM | 4,975 | 2,485 | 3.1
Bayside Gardens—Manzanita, OR | 2,849 | 3,052 | 3.0
Bealeton, VA | 6,608 | 2,257 | 4.4
Beardstown, IL | 6,262 | 2,505 | 2.1
Beatrice, NE | 12,142 | 6,011 | 8.7
Beaufort—Port Royal, SC | 52,515 | 21,456 | 43.8
Beaumont, TX | 146,649 | 65,409 | 96.1
Beaver Dam, KY | 5,658 | 2,566 | 3.4
Beaver Dam, WI | 18,824 | 8,633 | 9.4
Beckley, WV | 57,468 | 27,981 | 53.6
Bedford, IN | 14,432 | 6,932 | 8.5
Bedford, PA | 4,392 | 2,426 | 3.8
Bedford, VA | 7,541 | 3,587 | 8.6
Beebe, AR | 7,216 | 2,969 | 4.5
Beeville, TX | 14,230 | 6,110 | 6.3
Bel Air—Aberdeen, MD | 214,647 | 86,017 | 107.2
Belding, MI | 5,611 | 2,285 | 2.9
Belfair, WA | 5,141 | 3,022 | 5.3
Belfast, ME | 3,754 | 2,484 | 3.5
Belgrade, MT | 18,534 | 7,215 | 13.3
Belle Fourche, SD | 5,089 | 2,375 | 2.9
Belle Glade, FL | 23,009 | 7,996 | 7.2
Belle Plaine, MN | 7,061 | 2,629 | 3.5
Bellefontaine, OH | 14,024 | 6,358 | 6.2
Bellefonte, PA | 15,588 | 6,424 | 7.8
Bellevue, OH | 8,400 | 3,759 | 4.5
Bellingham, WA | 128,979 | 56,420 | 50.1
Bellows Falls, VT—NH | 3,978 | 2,072 | 2.4
Beloit, WI—IL | 63,073 | 26,188 | 31.9
Belterra, TX | 8,075 | 2,807 | 3.4
Belton, SC | 5,301 | 2,518 | 4.6
Bemidji, MN | 14,849 | 6,747 | 14.5
Bend, OR | 106,988 | 47,859 | 42.4
Bennettsville, SC | 9,075 | 4,618 | 7.5
Bennington, VT | 13,759 | 6,140 | 11.6
Benson, AZ | 3,830 | 2,342 | 2.7
Benton Harbor—Lincoln—St. Joseph, MI | 61,888 | 30,730 | 52.5
Benton, IL | 7,491 | 3,737 | 5.0
Benton, KY | 4,691 | 2,114 | 4.1
Benton, LA | 5,591 | 2,150 | 4.5
Berea, KY | 16,158 | 6,631 | 11.5
Berlin, NH | 9,658 | 5,339 | 4.9
Berlin, WI | 5,289 | 2,495 | 3.5
Berryville, AR | 5,057 | 2,008 | 4.2
Bethel, AK | 5,097 | 1,756 | 15.0
Beverly Hills—Homosassa Springs—Pine Ridge, FL | 96,729 | 50,309 | 118.8
Big Bear, CA | 16,498 | 20,795 | 15.9
Big Lake, MN | 11,868 | 4,293 | 5.4
Big Pine Key, FL | 8,441 | 6,099 | 8.5
Big Rapids, MI | 10,136 | 5,122 | 7.3
Big Spring, TX | 28,955 | 11,433 | 20.6
Big Stone Gap, VA | 6,915 | 2,830 | 6.6
Billings, MT | 128,787 | 57,343 | 54.7
Binghamton, NY | 155,942 | 72,333 | 69.7
Birch Bay, WA | 15,833 | 8,619 | 13.1
Birdsboro—Amity, PA | 16,999 | 6,533 | 8.6
Birmingham, AL | 774,956 | 346,732 | 509.3
Bisbee, AZ | 4,637 | 3,033 | 3.2
Bishop, CA | 11,013 | 5,104 | 5.5
Bismarck, ND | 98,198 | 45,189 | 41.9
Black River Falls, WI | 4,415 | 2,155 | 3.7
Blackfoot, ID | 14,231 | 5,387 | 7.5
Blacksburg—Christiansburg, VA | 72,400 | 29,193 | 34.0
Blackwell, OK | 6,017 | 3,186 | 3.8
Blair, NE | 8,001 | 3,531 | 8.2
Blairsville, PA | 6,156 | 3,377 | 5.2
Bloomfield, NM | 7,841 | 3,151 | 6.2
Bloomington, IN | 110,103 | 50,119 | 43.0
Bloomington—Normal, IL | 134,100 | 59,416 | 50.4
Bloomsburg—Berwick, PA | 39,212 | 17,812 | 20.7
Blowing Rock, NC | 1,412 | 2,085 | 3.2
Bluefield, WV—VA | 40,750 | 20,450 | 38.7
Bluffton East—Hilton Head Island, SC | 71,824 | 43,742 | 63.2
Bluffton West, SC | 31,096 | 15,069 | 23.3
Bluffton, IN | 10,346 | 4,758 | 6.5
Blythe, CA—AZ | 11,780 | 5,054 | 6.2
Blytheville, AR | 15,873 | 7,845 | 14.5
Boerne, TX | 18,320 | 7,410 | 9.7
Bogalusa, LA | 11,019 | 5,759 | 10.9
Boise City, ID | 433,180 | 177,221 | 139.2
Bolivar, MO | 10,324 | 4,442 | 5.9
Bolivar, TN | 5,281 | 2,437 | 4.7
Bonham, TX | 7,799 | 3,341 | 5.0
Bonita Springs—Estero, FL | 425,675 | 280,947 | 243.0
Bonne Terre, MO | 6,696 | 1,946 | 2.2
Boone, IA | 12,357 | 5,905 | 7.6
Boone, NC | 26,306 | 10,905 | 18.2
Booneville, MS | 6,438 | 2,626 | 6.4
Boonville, IN | 6,507 | 2,961 | 2.8
Boonville, MO | 8,034 | 3,364 | 5.8
Boothbay Harbor, ME | 3,067 | 3,797 | 11.2
Borger, TX | 12,848 | 6,288 | 9.4
Boston, MA—NH | 4,382,009 | 1,792,967 | 1,655.9
Boulder City, NV | 14,181 | 7,164 | 5.7
Boulder, CO | 120,828 | 52,204 | 25.4
Bowie, TX | 5,419 | 2,490 | 4.3
Bowling Green, KY | 97,814 | 41,874 | 52.2
Bowling Green, OH | 30,989 | 12,956 | 11.3
Box Elder, SD | 11,386 | 4,162 | 6.1
Boyne City, MI | 3,990 | 2,708 | 5.3
Bozeman, MT | 59,080 | 26,060 | 21.4
Bradenton—Sarasota—Venice, FL | 779,075 | 447,842 | 404.3
Bradford, PA—NY | 11,182 | 4,980 | 5.7
Brady, TX | 4,887 | 2,528 | 2.9
Brainerd, MN | 20,687 | 9,316 | 16.1
Brandon, SD | 10,959 | 4,021 | 4.7
Branson, MO | 28,640 | 16,198 | 34.8
Brattleboro, VT | 10,285 | 5,500 | 5.7
Brawley, CA | 26,270 | 8,559 | 4.8
Brazil, IN | 10,587 | 4,722 | 6.6
Breaux Bridge, LA | 17,542 | 7,559 | 21.3
Breckenridge, CO | 8,725 | 10,276 | 11.2
Breckenridge, TX | 5,455 | 2,639 | 4.8
Breese, IL | 4,637 | 2,036 | 2.3
Bremen, GA | 7,327 | 2,944 | 7.4
Bremerton, WA | 224,449 | 91,973 | 146.9
Brenham, TX | 17,395 | 7,340 | 10.3
Brevard, NC | 13,059 | 6,580 | 13.8
Brewton, AL | 6,371 | 3,060 | 6.3
Bridgeport—Stamford, CT—NY | 916,408 | 367,076 | 397.3
Bridgeton, NJ | 35,666 | 10,832 | 12.2
Brigham City, UT | 25,827 | 8,992 | 10.1
Bristol, TN—VA | 70,638 | 34,040 | 68.7
Broadway—Timberville, VA | 7,188 | 2,960 | 3.6
Brockport, NY | 13,079 | 5,554 | 6.4
Brookfield, MO | 3,869 | 2,034 | 3.2
Brookhaven, MS | 10,152 | 4,815 | 10.0
Brookings, OR | 11,294 | 5,996 | 7.1
Brookings, SD | 23,674 | 10,132 | 11.1
Brooksville, FL | 12,128 | 6,436 | 8.4
Brookville, OH | 6,372 | 2,960 | 4.1
Brookville, PA | 4,644 | 2,228 | 3.6
Brownfield, TX | 8,264 | 3,524 | 4.4
Browns Mills, NJ | 27,234 | 9,507 | 17.3
Brownsville, TN | 9,621 | 4,472 | 7.4
Brownsville, TX | 216,444 | 73,165 | 62.1
Brownwood, TX | 21,562 | 9,768 | 13.5
Brunswick, MD | 8,269 | 3,231 | 3.6
Brunswick, ME | 31,361 | 15,015 | 26.8
Brunswick—St. Simons, GA | 68,750 | 34,174 | 59.0
Brush, CO | 5,568 | 2,242 | 2.5
Bryan, OH | 9,238 | 4,406 | 5.1
Buchanan, MI | 5,640 | 2,661 | 4.2
Buckeye North, AZ | 6,796 | 3,928 | 2.8
Buckeye, AZ | 23,897 | 7,659 | 7.8
Buckhannon, WV | 8,547 | 3,964 | 6.5
Bucyrus, OH | 11,772 | 5,827 | 6.9
Buellton, CA | 5,161 | 2,030 | 1.6
Buena Vista, CO | 5,038 | 2,075 | 5.1
Buena Vista, VA | 6,603 | 2,937 | 4.0
Buffalo, MN | 16,439 | 6,385 | 8.2
Buffalo, NY | 948,864 | 442,770 | 340.5
Buffalo, WY | 4,516 | 2,316 | 3.3
Buies Creek—Lillington, NC | 7,391 | 2,930 | 7.1
Bullhead City, AZ—NV | 54,396 | 30,618 | 35.4
Burkburnett, TX | 10,449 | 4,632 | 6.5
Burley, ID | 17,741 | 6,631 | 9.5
Burlington, IA—IL | 28,447 | 14,251 | 21.1
Burlington, NC | 145,311 | 61,970 | 92.0
Burlington, VT | 118,032 | 52,015 | 62.0
Burlington, WI | 24,086 | 10,643 | 12.7
Burnet, TX | 5,001 | 2,223 | 3.6
Burns, OR | 4,169 | 2,058 | 3.0
Burnt Store Marina, FL | 4,191 | 3,220 | 4.3
Bushnell, FL | 3,664 | 2,061 | 2.8
Butler, PA | 37,954 | 18,787 | 28.5
Butte-Silver Bow, MT | 30,258 | 15,141 | 15.3
Byron, IL | 5,625 | 2,301 | 3.3
Byron, MN | 6,341 | 2,398 | 3.1
Cadillac, MI | 12,208 | 6,140 | 10.9
Cairo, GA | 10,346 | 4,422 | 8.0
Calexico, CA | 38,491 | 10,793 | 5.4
Calhoun, GA | 23,066 | 9,099 | 20.4
California—Brownsville, PA | 10,185 | 4,994 | 6.1
Calistoga, CA | 5,173 | 2,376 | 2.3
Calumet, MI | 5,112 | 2,927 | 2.5
Camarillo, CA | 76,338 | 30,143 | 22.5
Cambria, CA | 5,478 | 3,924 | 2.7
Cambridge, MD | 14,978 | 7,425 | 8.7
Cambridge, MN | 10,128 | 4,196 | 5.9
Cambridge, OH | 14,427 | 7,367 | 11.0
Camden, AR | 9,873 | 5,192 | 11.1
Camden, ME | 4,660 | 2,959 | 4.1
Camden—Lugoff, SC | 30,655 | 13,337 | 34.6
Camdenton, MO | 5,849 | 3,481 | 8.9
Cameron, MO | 8,450 | 2,882 | 4.5
Cameron, TX | 5,151 | 2,221 | 3.5
Camilla, GA | 5,270 | 2,350 | 4.7
Camp Verde, AZ | 5,759 | 2,649 | 5.2
Campbellsville, KY | 12,789 | 5,547 | 8.5
Canajoharie—Fort Plain, NY | 5,278 | 2,706 | 4.0
Canandaigua, NY | 18,049 | 9,873 | 13.1
Canastota, NY | 5,616 | 2,550 | 3.8
Canby, OR | 19,055 | 7,104 | 5.9
Cañon City, CO | 24,737 | 11,117 | 15.9
Canton, IL | 13,177 | 5,828 | 5.4
Canton, MS | 26,257 | 10,461 | 23.7
Canton, NC | 8,812 | 4,109 | 8.9
Canton, NY | 6,812 | 1,815 | 2.2
Canton, OH | 295,319 | 132,970 | 180.2
Canyon Lake, TX | 7,918 | 4,615 | 9.2
Canyon, TX | 16,171 | 6,999 | 7.3
Cape Coral, FL | 599,242 | 316,907 | 331.8
Cape Girardeau, MO—IL | 55,546 | 24,822 | 31.2
Carbondale, CO | 7,361 | 2,887 | 2.6
Carbondale, IL | 31,488 | 17,666 | 21.7
Carlinville, IL | 5,602 | 2,533 | 3.0
Carlsbad, NM | 34,442 | 14,802 | 19.5
Carmi, IL | 5,067 | 2,539 | 2.6
Caro, MI | 5,383 | 2,567 | 4.5
Carrizo Springs, TX | 5,615 | 2,470 | 4.2
Carroll, IA | 10,150 | 4,769 | 5.0
Carrollton, GA | 38,385 | 14,836 | 34.4
Carrollton, KY | 5,471 | 2,398 | 3.5
Carson City, NV | 61,629 | 26,356 | 26.2
Cartersville, GA | 52,351 | 20,867 | 44.4
Carthage, MO | 16,260 | 6,432 | 8.6
Carthage, NY | 5,160 | 2,551 | 2.5
Carthage, TX | 6,328 | 2,841 | 7.5
Caruthersville, MO | 5,319 | 2,582 | 3.2
Casa Grande, AZ | 50,981 | 22,577 | 21.5
Casper, WY | 67,751 | 31,193 | 27.9
Castle Rock, CO | 85,350 | 31,345 | 35.7
Castroville—Prunedale, CA | 12,334 | 3,180 | 3.4
Catskill, NY | 7,012 | 3,733 | 6.4
Cedar City, UT | 40,899 | 14,337 | 18.3
Cedar Rapids, IA | 192,844 | 86,125 | 86.0
Cedartown, GA | 12,833 | 5,133 | 9.6
Celina, OH | 12,035 | 5,519 | 6.1
Center, TX | 5,123 | 2,271 | 6.8
Centerville, IA | 5,269 | 2,724 | 3.5
Central City, KY | 5,767 | 2,242 | 4.3
Centralia, IL | 15,301 | 7,386 | 9.8
Centralia, WA | 42,338 | 16,951 | 30.4
Chadron, NE | 4,930 | 2,213 | 2.3
Chambersburg, PA | 50,094 | 21,787 | 34.7
Champaign, IL | 147,452 | 68,225 | 46.5
Chanute, KS | 8,710 | 4,112 | 5.8
Chapin, SC | 5,701 | 2,238 | 6.3
Chardon, OH | 6,454 | 3,062 | 5.2
Charles City, IA | 7,255 | 3,684 | 4.1
Charleston, IL | 17,415 | 8,399 | 7.8
Charleston, SC | 684,773 | 305,541 | 339.1
Charleston, WV | 140,958 | 71,602 | 92.9
Charlestown, IN | 6,696 | 2,881 | 4.0
Charlestown, RI | 4,348 | 3,712 | 6.3
Charlevoix, MI | 3,777 | 3,092 | 4.0
Charlotte Amalie, VI | 41,534 | 27,775 | 23.6
Charlotte, MI | 13,026 | 5,569 | 8.4
Charlotte, NC—SC | 1,379,873 | 576,259 | 657.6
Charlottesville, VA | 104,191 | 45,311 | 36.9
Chatsworth, GA | 12,808 | 5,030 | 16.1
Chattanooga, TN—GA | 398,569 | 176,961 | 291.7
Cheboygan, MI | 5,142 | 3,100 | 6.0
Chelan, WA | 6,380 | 4,637 | 7.5
Chelsea, MI | 5,851 | 2,661 | 3.5
Cheney, WA | 13,176 | 5,346 | 3.3
Cheraw, SC | 7,480 | 3,686 | 7.4
Cherokee, IA | 4,705 | 2,288 | 3.1
Cherryville, NC | 6,747 | 3,027 | 6.2
Chesapeake Beach, MD | 16,926 | 7,005 | 13.1
Chester, IL | 6,338 | 2,026 | 4.0
Chester, NY | 5,900 | 2,448 | 4.6
Chester, SC | 8,611 | 4,093 | 6.3
Chestertown, MD | 7,392 | 3,337 | 4.4
Cheyenne, WY | 79,250 | 35,732 | 33.9
Chicago, IL—IN | 8,671,746 | 3,559,615 | 2,337.9
Chickasha, OK | 15,253 | 7,017 | 9.7
Chico, CA | 111,411 | 48,438 | 33.7
Childress, TX | 4,516 | 2,298 | 3.2
Chillicothe, MO | 9,122 | 3,910 | 6.0
Chillicothe, OH | 31,727 | 12,864 | 16.4
Chincoteague, VA | 3,223 | 4,092 | 4.1
Chino Valley, AZ | 13,317 | 5,875 | 13.7
Chisholm, MN | 4,586 | 2,296 | 2.2
Chittenango, NY | 5,054 | 2,166 | 2.2
Chowchilla, CA | 13,196 | 4,417 | 4.8
Christiansted—Frederiksted, VI | 38,372 | 23,713 | 34.4
Ciales, PR | 13,098 | 5,797 | 11.6
Cienega Springs, AZ | 2,041 | 2,934 | 3.2
Cincinnati, OH—KY | 1,686,744 | 727,550 | 752.3
Circleville, OH | 15,679 | 6,971 | 7.4
Clanton, AL | 6,423 | 2,847 | 9.1
Claremont, NH | 9,415 | 4,414 | 6.0
Claremore, OK | 25,415 | 10,532 | 15.4
Clarinda, IA | 5,213 | 2,105 | 2.4
Clarion, PA | 5,662 | 2,746 | 3.4
Clarksburg, WV | 32,882 | 16,027 | 21.2
Clarksdale, MS | 14,408 | 6,851 | 7.4
Clarksville, AR | 7,816 | 3,324 | 7.8
Clarksville, TN—KY | 200,947 | 76,824 | 113.1
Clay Center, KS | 4,131 | 2,073 | 2.5
Clayton, NC | 51,898 | 19,895 | 36.3
Clayton, NY | 2,092 | 2,089 | 2.7
Cle Elum, WA | 3,846 | 2,369 | 4.5
Clear Lake, IA | 8,406 | 5,640 | 8.6
Clearfield, PA | 10,524 | 5,418 | 7.1
Clearlake Riviera, CA | 5,461 | 3,439 | 6.7
Clearlake, CA | 17,351 | 8,262 | 8.1
Cleburne, TX | 43,901 | 16,854 | 24.5
Cleveland, MS | 14,346 | 6,405 | 8.2
Cleveland, OH | 1,712,178 | 808,782 | 713.8
Cleveland, TN | 73,918 | 30,584 | 55.0
Cleveland, TX | 7,469 | 3,054 | 4.5
Clewiston, FL | 12,849 | 4,761 | 5.5
Clifton Forge, VA | 5,127 | 2,759 | 4.5
Clifton Springs, NY | 6,383 | 2,900 | 4.2
Clinton, IL | 7,323 | 3,549 | 3.6
Clinton, IN | 6,484 | 3,130 | 3.1
Clinton, MO | 8,866 | 4,370 | 6.1
Clinton, NC | 9,315 | 4,127 | 9.1
Clinton, NJ | 16,136 | 6,161 | 10.5
Clinton, OK | 8,022 | 3,571 | 4.3
Clinton, SC | 9,143 | 4,046 | 8.5
Clinton—Fulton, IA—IL | 31,126 | 15,074 | 19.1
Clintonville, WI | 4,530 | 2,262 | 2.7
Cloquet, MN | 13,213 | 5,704 | 9.4
Clover, SC | 7,526 | 2,948 | 5.2
Cloverdale, CA | 9,451 | 3,718 | 3.4
Clovis, NM | 39,314 | 17,413 | 16.1
Clyde, OH | 6,549 | 2,825 | 4.8
Coal City—Braidwood, IL | 15,837 | 7,007 | 10.3
Coalinga, CA | 13,049 | 4,655 | 4.3
Coamo, PR | 30,344 | 14,143 | 16.3
Cobleskill, NY | 5,040 | 2,359 | 4.3
Cochran, GA | 6,159 | 2,408 | 5.5
Cody, WY | 9,999 | 5,060 | 6.9
Coeur d'Alene, ID | 121,831 | 51,420 | 46.8
Coffeyville, KS—OK | 9,391 | 4,814 | 7.4
Colby, KS | 5,467 | 2,479 | 3.0
Colchester, CT | 5,512 | 2,553 | 5.0
Cold Spring, MN | 5,099 | 2,211 | 3.2
Cold Springs, NV | 9,686 | 3,510 | 3.5
Coldwater, MI | 13,721 | 5,659 | 10.7
Coleman, TX | 3,599 | 2,129 | 2.8
College Station—Bryan, TX | 206,137 | 86,504 | 81.6
Collins, NY | 5,448 | 1,680 | 2.3
Collinsville, OK | 4,706 | 2,040 | 3.4
Colonial Beach, VA | 3,975 | 2,539 | 1.7
Colorado City, TX | 5,839 | 1,807 | 2.8
Colorado Springs, CO | 632,494 | 254,131 | 200.4
Columbia City, IN | 10,256 | 4,613 | 6.0
Columbia Falls, MT | 6,589 | 3,158 | 4.3
Columbia, KY | 5,018 | 2,036 | 3.4
Columbia, MO | 141,831 | 62,836 | 67.2
Columbia, MS | 6,236 | 2,826 | 6.3
Columbia, SC | 590,407 | 258,608 | 367.5
Columbia, TN | 42,423 | 18,828 | 30.1
Columbiana, OH | 9,160 | 4,571 | 7.0
Columbus, GA—AL | 267,746 | 117,135 | 142.9
Columbus, IN | 60,982 | 26,694 | 27.9
Columbus, MS | 26,895 | 12,698 | 20.1
Columbus, NE | 24,838 | 10,276 | 13.5
Columbus, OH | 1,567,254 | 672,389 | 516.2
Columbus, WI | 6,977 | 3,056 | 4.1
Colusa, CA | 6,955 | 2,677 | 3.0
Colville, WA | 5,058 | 2,328 | 3.2
Commerce, GA | 7,688 | 3,196 | 10.3
Commerce, TX | 8,320 | 3,217 | 3.3
Concord, NC | 278,612 | 111,573 | 200.1
Concord, NH | 42,549 | 18,694 | 26.6
Concordia, KS | 5,031 | 2,511 | 3.1
Concord—Walnut Creek, CA | 538,583 | 211,815 | 175.8
Conesus Lake, NY | 4,867 | 3,126 | 4.8
Conneaut Lakeshore, PA | 2,846 | 2,522 | 3.8
Conneaut, OH | 12,072 | 5,486 | 8.3
Connell, WA | 5,437 | 1,021 | 2.2
Connellsville, PA | 30,777 | 15,316 | 20.6
Connersville, IN | 14,401 | 7,049 | 7.5
Conway, AR | 66,619 | 29,045 | 32.9
Conway, NH | 5,272 | 3,777 | 8.8
Cookeville, TN | 49,089 | 22,181 | 45.5
Coolbaugh—Pocono Pines, PA | 24,893 | 13,218 | 19.7
Coolidge, AZ | 12,008 | 4,486 | 4.1
Coos Bay, OR | 31,688 | 14,678 | 14.6
Coquí—Jobos, PR | 11,725 | 5,588 | 4.4
Coquille, OR | 4,373 | 2,030 | 3.4
Corcoran, CA | 22,377 | 4,294 | 6.3
Cordele, GA | 10,931 | 5,224 | 8.6
Corinth, MS | 12,464 | 6,085 | 12.8
Corinth, NY | 3,870 | 2,108 | 3.0
Cornelia—Baldwin, GA | 19,489 | 6,859 | 19.6
Corning, CA | 8,459 | 3,047 | 3.0
Corning, NY | 19,541 | 9,909 | 10.8
Corona de Tucson, AZ | 7,866 | 2,696 | 3.4
Corpus Christi, TX | 339,066 | 143,128 | 129.3
Corry, PA | 6,224 | 2,822 | 4.2
Corsicana, TX | 24,380 | 9,346 | 15.5
Cortez, CO | 8,628 | 3,914 | 4.2
Cortland, NY | 24,866 | 10,897 | 10.3
Corvallis, OR | 66,791 | 28,654 | 17.5
Corydon, IN | 5,696 | 2,509 | 3.6
Coshocton, OH | 12,334 | 6,012 | 7.8
Cottage Grove, OR | 11,826 | 4,816 | 5.2
Cottonwood (Yavapai County)—Verde Village, AZ | 29,121 | 13,877 | 16.9
Covington, TN | 7,320 | 3,335 | 6.0
Covington, VA | 7,745 | 4,051 | 7.3
Coxsackie, NY | 5,384 | 1,685 | 3.8
Craig, CO | 9,650 | 4,288 | 5.5
Crawfordsville, IN | 17,863 | 8,008 | 9.8
Crawfordville, FL | 10,124 | 3,912 | 9.7
Creedmoor, NC | 7,482 | 3,022 | 6.8
Crescent City, CA | 15,620 | 6,674 | 16.3
Cresson, PA | 6,512 | 3,002 | 3.9
Crestline, OH | 4,597 | 2,213 | 3.2
Crestline—Lake Arrowhead, CA | 22,272 | 17,901 | 16.9
Creston, IA | 7,507 | 3,668 | 4.5
Crestview, FL | 46,816 | 18,409 | 39.8
Creswell, OR | 6,137 | 2,358 | 2.4
Crete, NE | 6,959 | 2,411 | 2.6
Crisfield, MD | 3,509 | 2,036 | 2.7
Crockett, TX | 5,935 | 2,826 | 6.6
Crookston, MN | 7,618 | 3,441 | 4.6
Crossett, AR | 7,184 | 3,550 | 9.0
Crossville, TN | 19,949 | 9,868 | 26.8
Crowley, LA | 13,168 | 6,429 | 7.1
Crozet, VA | 9,378 | 3,779 | 4.5
Cruz Bay, VI | 2,964 | 2,681 | 3.1
Crystal City, TX | 6,709 | 2,670 | 3.5
Crystal River, FL | 7,834 | 4,847 | 14.1
Crystal Springs, MS | 5,057 | 2,151 | 4.0
Cuero, TX | 7,619 | 3,020 | 4.4
Cullman, AL | 21,165 | 9,371 | 21.5
Cullowhee, NC | 9,134 | 3,147 | 6.1
Culpeper, VA | 22,563 | 8,059 | 9.4
Cumberland, MD—WV—PA | 46,296 | 22,834 | 31.7
Cushing, OK | 6,595 | 3,332 | 9.3
Cynthiana, KY | 6,393 | 2,952 | 3.0
Dade City, FL | 20,304 | 7,856 | 14.4
Dahlonega, GA | 6,508 | 1,403 | 3.1
Dalhart, TX | 8,352 | 3,489 | 3.5
Dallas, OR | 17,625 | 7,189 | 5.5
Dallas—Fort Worth—Arlington, TX | 5,732,354 | 2,243,270 | 1,746.9
Dalton, GA | 67,830 | 25,333 | 57.5
Danbury, CT—NY | 171,680 | 68,643 | 118.5
Dansville, NY | 4,806 | 2,321 | 3.2
Danville, IL | 40,044 | 18,786 | 27.8
Danville, KY | 19,814 | 8,752 | 13.6
Danville, VA—NC | 46,683 | 24,055 | 36.3
Danville—Mahoning, PA | 9,771 | 4,698 | 5.2
Davenport, IA—IL | 285,211 | 130,167 | 134.9
Davis, CA | 77,034 | 29,345 | 12.2
Dayton Northeast, NV | 6,248 | 2,375 | 3.8
Dayton Southwest, NV | 7,547 | 3,184 | 4.5
Dayton, OH | 674,046 | 308,659 | 319.9
Dayton, TN | 9,688 | 4,259 | 9.1
Dayton, TX | 6,879 | 2,908 | 5.4
Daytona Beach—Palm Coast—Port Orange, FL | 402,126 | 216,962 | 212.4
De Queen, AR | 5,894 | 2,163 | 4.8
De Soto, MO | 7,649 | 3,440 | 4.4
Decatur, AL | 60,458 | 26,455 | 43.5
Decatur, IL | 86,287 | 42,057 | 55.1
Decatur, IN | 10,441 | 4,820 | 6.6
Decatur, TX | 6,486 | 2,608 | 6.2
Decorah, IA | 7,993 | 3,384 | 5.2
Dededo—Apotgan—Tamuning, GU | 128,164 | 43,957 | 55.2
Defiance, OH | 17,775 | 7,987 | 12.4
DeFuniak Springs, FL | 6,977 | 3,065 | 7.2
DeKalb, IL | 64,736 | 26,985 | 25.6
Del Rio, TX | 42,680 | 15,789 | 18.8
Delano, CA | 44,410 | 11,713 | 7.4
Delano, MN | 6,178 | 2,307 | 3.1
Delavan, WI | 12,354 | 6,703 | 9.1
Delhi, CA | 10,274 | 2,730 | 2.3
Delphos, OH | 7,266 | 3,242 | 3.4
Delta, CO | 8,190 | 3,553 | 6.2
Deltona, FL | 210,712 | 86,104 | 109.0
Deming, NM | 14,913 | 6,492 | 8.2
Demopolis, AL | 6,227 | 2,986 | 4.5
Denison, IA | 8,142 | 3,000 | 4.5
Denton Southwest, TX | 14,105 | 5,719 | 7.1
Denton, MD | 5,009 | 1,941 | 3.3
Denton—Lewisville, TX | 429,461 | 166,497 | 150.5
Denver—Aurora, CO | 2,686,147 | 1,125,043 | 644.5
DeRidder, LA | 12,126 | 5,563 | 14.5
Des Moines, IA | 542,486 | 232,461 | 224.7
Desert Hot Springs, CA | 45,767 | 18,838 | 14.1
Detroit Lakes, MN | 10,234 | 5,956 | 9.2
Detroit, MI | 3,776,890 | 1,647,476 | 1,284.8
Devils Lake, ND | 7,493 | 3,787 | 5.1
DeWitt, IA | 5,162 | 2,250 | 4.0
Dexter, MI | 5,285 | 2,155 | 2.5
Dexter, MO | 9,635 | 4,675 | 7.7
Diamondhead, MS | 9,044 | 4,380 | 5.1
Dickinson, ND | 25,674 | 11,897 | 12.3
Dickson, TN | 16,543 | 7,239 | 16.5
Dillon, MT | 4,429 | 2,221 | 2.7
Dillon, SC | 8,484 | 3,955 | 6.3
Discovery Bay, CA | 15,939 | 6,271 | 4.2
Dixon, CA | 18,876 | 6,524 | 4.4
Dixon, IL | 15,987 | 6,712 | 7.8
Dodge City, KS | 27,702 | 9,853 | 10.9
Dodgeville, WI | 4,898 | 2,199 | 3.3
Donaldsonville, LA | 12,461 | 5,596 | 15.6
Dos Palos, CA | 7,721 | 2,340 | 2.3
Dothan, AL | 72,423 | 33,948 | 55.1
Douglas, AZ | 16,582 | 6,504 | 5.5
Douglas, GA | 14,258 | 6,099 | 16.6
Douglas, MI | 3,259 | 2,651 | 4.2
Douglas, WY | 6,498 | 3,120 | 3.3
Dover, DE | 123,101 | 48,756 | 72.3
Dover—Rochester, NH—ME | 72,391 | 33,561 | 52.3
Dowagiac, MI | 5,896 | 2,689 | 3.6
Du Quoin, IL | 5,933 | 2,969 | 4.1
Dublin, GA | 20,842 | 9,337 | 20.4
DuBois, PA | 11,656 | 5,625 | 7.2
Dubuque, IA—IL | 70,332 | 31,475 | 34.2
Duluth, MN—WI | 119,411 | 55,048 | 66.9
Dumas, AR | 4,308 | 2,143 | 3.1
Dumas, TX | 14,639 | 5,632 | 4.9
Duncan, OK | 20,353 | 10,118 | 13.6
Dundee, MI | 5,252 | 2,314 | 3.9
Dunkirk—Fredonia, NY | 23,410 | 10,746 | 12.8
Dunn, NC | 13,707 | 6,504 | 11.1
Durand, MI | 5,056 | 2,354 | 3.8
Durango, CO | 19,114 | 9,232 | 9.5
Durant, OK | 19,324 | 8,259 | 12.0
Durham, NC | 396,118 | 173,410 | 183.4
Durham, NH | 12,117 | 2,548 | 4.0
Duvall, WA | 8,165 | 2,840 | 2.5
Dyersburg, TN | 16,790 | 7,674 | 13.0
Eagle Mountain, UT | 10,269 | 2,550 | 2.0
Eagle Pass, TX | 54,083 | 18,705 | 21.1
Eagle, CO | 7,419 | 2,640 | 3.4
Earlimart, CA | 7,470 | 1,883 | 1.3
East Aurora, NY | 8,765 | 3,997 | 5.8
East Hampton North—Springs—Northwest Harbor, NY | 21,812 | 15,022 | 35.9
East Liverpool, OH—WV—PA | 21,126 | 10,424 | 15.5
East Palestine, OH | 4,634 | 2,085 | 2.9
East Stroudsburg—Stroudsburg, PA | 47,891 | 19,080 | 38.9
East Tawas, MI | 4,844 | 3,004 | 5.0
East Troy, WI | 5,309 | 2,453 | 4.1
Eastman, GA | 6,220 | 2,778 | 6.0
Easton, MD | 18,033 | 8,357 | 11.1
Eaton Rapids, MI | 5,076 | 2,314 | 2.8
Eaton, CO | 5,823 | 2,174 | 2.2
Eaton, OH | 8,067 | 3,860 | 4.5
Eau Claire, WI | 105,475 | 46,055 | 62.5
Ebensburg, PA | 4,880 | 2,350 | 2.6
Eden, NC | 16,323 | 8,197 | 14.2
Edenton, NC | 4,329 | 2,361 | 3.6
Edgerton, WI | 8,360 | 4,277 | 6.2
Edinboro, PA | 5,730 | 2,627 | 2.4
Edna, TX | 5,910 | 2,619 | 3.7
Edwards—Avon, CO | 16,518 | 11,151 | 11.6
Effingham, IL | 13,990 | 6,588 | 13.6
El Campo, TX | 13,286 | 5,171 | 7.8
El Centro, CA | 74,376 | 24,115 | 19.4
El Dorado, AR | 18,698 | 8,867 | 20.3
El Dorado, KS | 12,774 | 5,819 | 7.4
El Paso de Robles (Paso Robles)—Atascadero, CA | 67,804 | 27,041 | 30.0
El Paso, TX—NM | 854,584 | 315,198 | 255.9
El Reno, OK | 14,346 | 6,252 | 8.7
Elberton, GA | 5,700 | 2,770 | 5.0
Elburn, IL | 6,395 | 2,334 | 3.6
Eldersburg, MD | 30,486 | 11,346 | 18.4
Eldon, MO | 4,513 | 2,168 | 3.3
Elgin, TX | 10,779 | 3,823 | 4.8
Elizabeth City, NC | 22,834 | 10,393 | 16.5
Elizabethtown—Radcliff, KY | 76,441 | 32,896 | 55.8
Elk City, OK | 11,124 | 5,740 | 9.0
Elkhart, IN—MI | 148,199 | 59,094 | 94.9
Elkhorn, WI | 11,876 | 5,034 | 6.9
Elkins, WV | 11,109 | 5,395 | 7.1
Elko, NV | 21,695 | 9,136 | 12.6
Elkton, VA | 5,032 | 2,933 | 4.8
Ellensburg, WA | 21,518 | 10,092 | 8.8
Ellenville, NY | 7,090 | 2,648 | 3.3
Ellijay, GA | 6,738 | 3,738 | 13.2
Ellwood City, PA | 13,155 | 6,342 | 7.4
Elmira, NY | 62,468 | 29,533 | 31.7
Elsa, TX | 12,984 | 4,221 | 6.3
Elwood, IN | 9,199 | 4,448 | 4.6
Ely, NV | 4,455 | 2,284 | 3.1
Emmett, ID | 10,173 | 4,191 | 5.7
Emporia, KS | 24,082 | 11,224 | 11.2
Emporia, VA | 6,871 | 3,067 | 6.5
Enid, OK | 50,194 | 22,482 | 29.5
Ennis, TX | 19,763 | 7,195 | 12.4
Enterprise, AL | 31,258 | 13,725 | 23.7
Ephraim, UT | 5,049 | 1,680 | 1.7
Ephrata, WA | 8,050 | 3,210 | 4.3
Erie, PA | 187,820 | 85,013 | 73.3
Erwin, TN | 8,678 | 4,077 | 5.9
Escalon, CA | 7,480 | 2,723 | 2.0
Escanaba, MI | 21,159 | 10,444 | 18.1
Española, NM | 23,931 | 10,382 | 20.1
Estacada, OR | 5,267 | 1,992 | 3.0
Estes Park, CO | 7,907 | 6,112 | 12.2
Estherville, IA | 5,774 | 2,675 | 3.5
Etowah, TN | 4,513 | 2,158 | 4.5
Eudora, KS | 6,400 | 2,419 | 2.6
Eufaula, AL—GA | 9,184 | 4,482 | 7.0
Eugene, OR | 270,179 | 116,321 | 73.5
Eunice, LA | 10,510 | 4,863 | 7.1
Eureka, CA | 45,951 | 20,603 | 18.8
Eureka, IL | 5,401 | 2,216 | 2.5
Eureka, MO | 14,027 | 4,870 | 9.3
Evanston, WY | 11,416 | 5,057 | 7.7
Evansville, IN | 206,855 | 94,932 | 112.8
Evansville, WI | 6,321 | 2,620 | 2.8
Evergreen, CO | 10,218 | 4,424 | 9.5
Excelsior Springs, MO | 9,840 | 4,435 | 5.7
Exeter, CA | 10,973 | 3,909 | 2.9
Exeter, NH | 16,165 | 7,629 | 11.7
Fabens, TX | 7,094 | 2,476 | 1.7
Fairbanks, AK | 71,396 | 30,180 | 74.3
Fairbury, NE | 4,011 | 2,022 | 2.4
Fairfield Glade, TN | 8,212 | 5,118 | 9.6
Fairfield, CA | 150,122 | 50,402 | 40.8
Fairfield, IA | 9,211 | 4,743 | 5.4
Fairfield, IL | 4,766 | 2,540 | 3.3
Fairhope—Daphne, AL | 76,807 | 33,719 | 59.1
Fairmont, MN | 8,387 | 4,180 | 3.6
Fairmont, WV | 31,694 | 15,332 | 20.2
Fajardo, PR | 68,587 | 40,103 | 34.4
Falcon, CO | 21,348 | 6,627 | 8.5
Falfurrias, TX | 4,497 | 2,027 | 2.2
Fallbrook, CA | 41,305 | 14,606 | 26.0
Fallon, NV | 16,753 | 7,153 | 14.0
Falls City, NE | 4,133 | 2,148 | 3.4
Fargo, ND—MN | 216,214 | 98,798 | 77.7
Faribault, MN | 24,013 | 8,902 | 10.2
Farmington, MO | 32,804 | 13,603 | 18.1
Farmington, NM | 51,763 | 20,575 | 32.6
Farmville, NC | 4,380 | 2,204 | 2.9
Farmville, VA | 7,916 | 3,005 | 6.6
Fayetteville, NC | 325,008 | 137,211 | 195.9
Fayetteville, TN | 10,120 | 4,817 | 12.4
Fayetteville—Springdale—Rogers, AR—MO | 373,687 | 150,509 | 198.3
Fenton, MI | 38,156 | 16,869 | 29.7
Fergus Falls, MN | 13,116 | 6,302 | 7.6
Fernandina Beach—Yulee, FL | 50,805 | 26,223 | 50.6
Fernley, NV | 19,233 | 7,298 | 10.6
Ferriday, LA | 5,169 | 2,213 | 4.8
Fillmore, CA | 16,397 | 4,726 | 2.6
Findlay, OH | 48,144 | 22,745 | 25.6
Fire Island, NY | 998 | 3,990 | 2.9
Firebaugh, CA | 8,117 | 2,246 | 2.5
Firestone—Frederick, CO | 35,447 | 12,207 | 15.2
Fitzgerald, GA | 11,281 | 5,354 | 8.5
Flagstaff, AZ | 79,842 | 32,500 | 29.3
Flemington—Raritan, NJ | 24,401 | 9,571 | 18.4
Flint, MI | 298,964 | 139,045 | 205.5
Flora, IL | 4,793 | 2,261 | 3.2
Florence East, AZ | 14,049 | 2,796 | 2.7
Florence West, AZ | 11,636 | 5,032 | 5.9
Florence, AL | 78,925 | 38,442 | 54.6
Florence, OR | 11,477 | 6,674 | 8.0
Florence, SC | 89,436 | 40,455 | 68.0
Floresville, TX | 6,313 | 2,449 | 3.9
Foley—Gulf Shores, AL | 40,920 | 26,434 | 49.0
Fond du Lac, WI | 54,731 | 24,532 | 24.7
Fontana-on-Geneva Lake, WI | 10,466 | 7,382 | 10.3
Forest City—Spindale, NC | 20,760 | 9,937 | 26.9
Forest Lake, MN | 21,882 | 9,111 | 14.0
Forney, TX | 41,112 | 13,983 | 19.7
Forrest City, AR | 8,557 | 4,074 | 7.0
Forsyth, GA | 4,852 | 2,158 | 5.2
Forsyth, MO | 7,423 | 3,724 | 6.6
Fort Atkinson, WI | 13,852 | 6,067 | 6.9
Fort Bragg, CA | 10,668 | 5,124 | 9.8
Fort Collins, CO | 326,332 | 138,125 | 118.0
Fort Dodge, IA | 24,699 | 11,246 | 13.6
Fort Irwin, CA | 8,096 | 2,462 | 3.6
Fort Leonard Wood—St. Robert—Waynesville, MO | 31,672 | 9,536 | 26.2
Fort Lupton, CO | 7,856 | 2,749 | 2.3
Fort Madison, IA—IL | 10,278 | 5,081 | 6.0
Fort Meade, FL | 4,874 | 2,381 | 2.3
Fort Morgan, CO | 13,473 | 5,011 | 5.5
Fort Payne, AL | 8,380 | 3,335 | 8.6
Fort Polk South, LA | 9,983 | 3,622 | 9.5
Fort Rucker—Daleville, AL | 7,157 | 3,126 | 7.8
Fort Scott, KS | 7,439 | 3,603 | 5.1
Fort Smith, AR—OK | 125,811 | 55,567 | 74.0
Fort Stockton, TX | 8,551 | 3,658 | 6.0
Fort Valley, GA | 9,704 | 4,195 | 5.8
Fort Wayne, IN | 335,934 | 144,476 | 163.6
Fortuna, CA | 12,784 | 5,408 | 5.8
Fostoria, OH | 14,295 | 6,652 | 8.3
Four Corners, FL | 92,396 | 50,820 | 84.5
Frankenmuth, MI | 5,045 | 2,475 | 2.9
Frankfort, IN | 16,775 | 6,650 | 7.5
Frankfort, KY | 37,844 | 18,234 | 22.3
Frankfort, MI | 2,603 | 2,627 | 4.2
Franklin (Venango County), PA | 8,500 | 4,324 | 5.6
Franklin, KY | 11,597 | 4,976 | 8.3
Franklin, LA | 9,491 | 4,516 | 6.2
Franklin, NC | 9,358 | 5,011 | 14.0
Franklin, NH | 6,659 | 3,080 | 4.2
Franklin, VA | 8,749 | 4,228 | 6.4
Fraser, CO | 3,178 | 5,385 | 4.5
Frederick, MD | 176,456 | 68,467 | 80.3
Fredericksburg, TX | 11,641 | 6,225 | 7.8
Fredericksburg, VA | 167,679 | 64,150 | 89.6
Fredericktown, MO | 4,986 | 2,187 | 3.3
Freeland, MI | 7,412 | 2,282 | 8.5
Freeland, PA | 5,754 | 2,753 | 1.6
Freeland, WA | 7,907 | 5,367 | 12.1
Freeport, IL | 24,135 | 11,988 | 10.6
Fremont, MI | 5,165 | 2,426 | 3.8
Fremont, NE | 28,292 | 11,998 | 13.8
Fremont, OH | 22,175 | 10,492 | 13.4
Fresno, CA | 717,589 | 247,152 | 159.1
Friday Harbor, WA | 3,542 | 2,139 | 4.4
Frisco, CO | 3,463 | 3,654 | 2.2
Front Royal, VA | 16,193 | 6,641 | 10.7
Frostproof, FL | 8,092 | 3,668 | 7.5
Fulton, KY—TN | 4,256 | 2,224 | 3.2
Fulton, MO | 12,479 | 4,682 | 8.7
Fulton, NY | 12,788 | 5,989 | 5.7
Gadsden, AL | 57,975 | 27,550 | 61.2
Gaffney, SC | 19,042 | 8,718 | 15.4
Gainesville, FL | 213,748 | 95,632 | 87.7
Gainesville, GA | 265,218 | 100,455 | 251.7
Gainesville, TX | 16,544 | 6,734 | 9.6
Galax, VA | 6,767 | 3,271 | 6.6
Galesburg, IL | 33,847 | 15,669 | 21.9
Galion, OH | 11,364 | 5,541 | 6.4
Galliano—Larose—Cut Off, LA | 20,056 | 8,765 | 18.7
Gallup, NM | 24,448 | 9,158 | 13.7
Galt, CA | 26,618 | 8,744 | 7.1
Galveston—Texas City, TX | 191,863 | 92,177 | 109.0
Garapan, MP | 36,921 | 14,519 | 17.2
Garden City, KS | 30,976 | 11,478 | 12.7
Gardnerville, NV | 21,338 | 9,599 | 12.7
Gastonia, NC | 176,897 | 76,009 | 124.6
Gatesville, TX | 15,565 | 4,000 | 10.2
Gaylord—Bagley, MI | 8,476 | 4,616 | 10.3
Geneseo, IL | 6,435 | 3,093 | 3.8
Geneseo, NY | 8,025 | 2,387 | 2.4
Geneva, NY | 29,572 | 14,251 | 16.8
Geneva, OH | 7,355 | 3,480 | 4.8
Genoa, IL | 5,484 | 2,058 | 2.2
Georgetown, DE | 9,921 | 2,777 | 4.9
Georgetown, KY | 38,912 | 15,654 | 15.1
Georgetown, SC | 11,364 | 5,404 | 9.2
Germantown, OH | 5,577 | 2,311 | 2.8
Gettysburg—Cumberland, PA | 14,733 | 6,074 | 8.3
Gillespie, IL | 5,037 | 2,430 | 2.8
Gillette, WY | 34,422 | 14,532 | 19.7
Gilmer, TX | 5,084 | 2,208 | 4.1
Gilroy—Morgan Hill, CA | 114,833 | 36,785 | 42.5
Glasgow, KY | 14,849 | 6,973 | 11.8
Glencoe, MN | 5,738 | 2,478 | 3.2
Glendive, MT | 6,675 | 3,217 | 5.4
Glens Falls, NY | 71,191 | 35,410 | 51.6
Glenwood Springs, CO | 10,889 | 4,602 | 5.5
Glenwood, IA | 5,009 | 2,078 | 2.4
Glenwood, MN | 4,202 | 2,464 | 4.2
Globe, AZ | 12,620 | 6,333 | 8.1
Gloversville, NY | 26,286 | 13,325 | 15.5
Gold Canyon, AZ | 9,590 | 6,814 | 7.9
Goldsboro, NC | 54,456 | 25,498 | 53.2
Gonzales, CA | 8,682 | 2,105 | 1.5
Gonzales, TX | 6,953 | 2,902 | 4.4
Goodland, KS | 4,439 | 2,214 | 2.8
Goodyear South, AZ | 16,042 | 6,587 | 9.6
Governors Club, NC | 4,967 | 2,427 | 3.6
Grafton, WV | 4,824 | 2,380 | 3.5
Grafton—Port Washington—Cedarburg, WI | 44,086 | 19,802 | 23.1
Graham, TX | 8,585 | 3,825 | 4.7
Granbury, TX | 29,706 | 14,236 | 21.9
Grand Forks, ND—MN | 68,160 | 31,492 | 26.5
Grand Island, NE | 55,099 | 21,892 | 29.6
Grand Junction, CO | 135,973 | 58,584 | 75.6
Grand Lake, CO | 1,801 | 3,048 | 5.4
Grand Rapids, MI | 605,666 | 245,031 | 274.4
Grand Rapids, MN | 10,348 | 4,826 | 10.5
Grandview, WA | 11,187 | 3,353 | 4.1
Granite Falls, WA | 6,349 | 2,326 | 3.1
Grants Pass, OR | 55,724 | 24,348 | 30.4
Grants, NM | 9,972 | 4,544 | 6.1
Grantsville, UT | 9,598 | 2,958 | 4.4
Grass Valley, CA | 36,720 | 17,313 | 29.7
Grayson, KY | 5,418 | 2,397 | 5.2
Great Bend, KS | 14,766 | 7,127 | 6.2
Great Falls, MT | 67,097 | 30,776 | 30.3
Greeley, CO | 137,222 | 50,941 | 37.3
Green Bay, WI | 224,156 | 95,658 | 113.7
Green River, WY | 11,873 | 5,057 | 5.6
Green Valley, AZ | 37,315 | 23,803 | 20.2
Greencastle, IN | 10,190 | 4,035 | 4.8
Greendale—Lawrenceburg—Hidden Valley, IN—OH | 20,087 | 8,512 | 18.8
Greeneville, TN | 22,919 | 10,199 | 22.0
Greenfield, CA | 18,858 | 4,170 | 2.1
Greenfield, MA | 22,294 | 11,083 | 14.3
Greenfield, OH | 4,771 | 2,242 | 1.7
Greensboro, NC | 338,928 | 148,331 | 169.3
Greensburg, IN | 12,529 | 5,556 | 8.7
Greenville, AL | 5,823 | 2,890 | 5.6
Greenville, IL | 6,765 | 2,262 | 3.0
Greenville, KY | 5,516 | 2,578 | 5.5
Greenville, MI | 10,265 | 4,403 | 6.6
Greenville, MS | 29,267 | 13,687 | 16.8
Greenville, NC | 120,150 | 58,789 | 66.4
Greenville, OH | 12,983 | 6,653 | 6.7
Greenville, PA | 10,553 | 4,866 | 7.9
Greenville, SC | 387,271 | 171,025 | 262.2
Greenville, TX | 27,054 | 11,244 | 17.3
Greenwood, AR | 9,077 | 3,663 | 6.6
Greenwood, MS | 19,475 | 8,661 | 10.7
Greenwood, SC | 41,998 | 18,897 | 35.5
Grenada, MS | 10,276 | 5,021 | 7.1
Gridley, CA | 8,653 | 3,056 | 4.0
Griffin, GA | 38,311 | 15,772 | 27.9
Grinnell, IA | 9,486 | 4,011 | 4.3
Grissom AFB, IN | 6,856 | 1,598 | 4.3
Grove City, PA | 9,830 | 3,623 | 6.1
Grove, OK | 7,934 | 4,342 | 10.2
Guadalupe, CA | 8,046 | 2,118 | 1.1
Guánica, PR | 6,972 | 4,607 | 2.9
Guayama, PR | 52,290 | 27,128 | 21.8
Gulfport—Biloxi, MS | 236,344 | 106,428 | 168.6
Gun Barrel City, TX | 18,309 | 10,004 | 18.4
Gunnison, CO | 7,228 | 3,285 | 3.7
Gustine, CA | 6,128 | 2,147 | 1.2
Guthrie, OK | 9,312 | 4,145 | 6.8
Guymon, OK | 12,516 | 4,629 | 4.8
Gypsum, CO | 8,841 | 2,825 | 5.8
Hagerstown, MD—WV—PA—VA | 197,557 | 81,924 | 120.8
Hailey, ID | 12,035 | 4,877 | 5.3
Half Moon Bay, CA | 21,688 | 8,713 | 8.3
Hamburg—Vernon—Highland Lakes, NJ | 28,250 | 13,840 | 21.8
Hamilton, MT | 6,870 | 3,490 | 4.0
Hammond, LA | 72,526 | 31,199 | 76.4
Hammonton, NJ | 12,086 | 4,870 | 8.3
Hampshire, IL | 5,699 | 2,104 | 2.7
Hampstead, NC | 23,340 | 16,255 | 31.4
Hampstead—Manchester, MD | 14,542 | 5,697 | 7.9
Hanford, CA | 66,638 | 22,595 | 18.2
Hannibal, MO | 17,672 | 8,097 | 10.6
Hanover, PA | 56,712 | 24,313 | 25.7
Harlan, IA | 4,713 | 2,284 | 2.6
Harlan, KY | 6,147 | 3,073 | 4.8
Harlingen, TX | 118,838 | 46,951 | 54.2
Harriman—Kingston—Rockwood, TN | 22,348 | 10,813 | 30.5
Harrington, DE | 4,943 | 2,152 | 3.4
Harrisburg, IL | 8,283 | 4,154 | 5.3
Harrisburg, PA | 490,859 | 212,463 | 250.2
Harrisburg, SD | 6,663 | 2,369 | 2.4
Harrison, AR | 13,950 | 6,799 | 12.4
Harrison, OH—IN | 15,007 | 6,162 | 7.5
Harrisonburg, VA | 73,377 | 27,080 | 31.1
Harrisonville, MO | 9,423 | 4,034 | 6.8
Harrodsburg, KY | 9,791 | 4,489 | 6.5
Hartford City, IN | 6,135 | 3,054 | 3.5
Hartford, CT | 977,158 | 425,056 | 535.9
Hartford, WI | 23,757 | 10,450 | 14.9
Hartselle, AL | 15,596 | 6,619 | 13.9
Hartsville, SC | 13,946 | 6,687 | 12.7
Hartwell, GA | 5,963 | 2,608 | 6.8
Harvard, IL | 9,376 | 3,278 | 4.4
Hastings, MI | 8,041 | 3,558 | 4.7
Hastings, MN | 21,635 | 9,202 | 7.4
Hastings, NE | 24,807 | 11,175 | 12.8
Hattiesburg, MS | 80,821 | 35,939 | 63.6
Havelock, NC | 17,101 | 6,741 | 15.7
Havre, MT | 9,826 | 4,702 | 4.1
Hayes, MI | 3,796 | 2,405 | 3.2
Hays, KS | 21,880 | 9,934 | 9.7
Hazard, KY | 7,808 | 3,664 | 7.7
Hazlehurst, GA | 4,917 | 2,179 | 4.9
Hazleton, PA | 50,860 | 21,110 | 19.0
Heartland, TX | 9,841 | 3,065 | 2.8
Heber Springs, AR | 6,743 | 3,841 | 7.8
Heber, UT | 25,059 | 8,634 | 13.1
Heber-Overgaard, AZ | 3,573 | 4,832 | 9.2
Helena, MT | 52,380 | 24,037 | 31.7
Helena-West Helena, AR | 8,599 | 4,394 | 6.1
Hemet, CA | 173,194 | 61,575 | 37.1
Hempstead, TX | 4,890 | 2,095 | 3.0
Henderson, KY | 28,430 | 13,402 | 15.3
Henderson, NC | 19,894 | 8,880 | 16.3
Henderson, TN | 5,906 | 2,120 | 5.4
Henderson, TX | 14,924 | 4,608 | 10.5
Henryetta, OK | 6,207 | 2,931 | 5.2
Hereford, TX | 15,520 | 5,727 | 6.7
Hermiston, OR | 28,938 | 9,674 | 15.5
Hibbing, MN | 12,035 | 6,319 | 6.9
Hickory, NC | 201,511 | 89,412 | 221.3
Hidden Meadows, CA | 4,884 | 2,417 | 3.8
Higgins Lake, MI | 2,145 | 3,490 | 4.5
Higginsville, MO | 4,551 | 2,081 | 2.1
High Point, NC | 167,830 | 71,478 | 100.8
Highland, IL | 10,267 | 4,661 | 5.3
Hillsboro, IL | 6,880 | 2,390 | 3.9
Hillsboro, OH | 6,613 | 3,243 | 4.8
Hillsboro, TX | 8,068 | 3,301 | 5.9
Hillsborough, NC | 15,800 | 6,802 | 11.0
Hillsdale, MI | 10,642 | 4,606 | 6.7
Hilo, HI | 41,410 | 16,878 | 23.4
Hilton, NY | 8,057 | 3,191 | 4.0
Hinesville, GA | 53,107 | 21,243 | 37.2
Hobbs, NM | 44,157 | 16,787 | 26.0
Holden Beach, NC | 8,687 | 9,276 | 19.6
Holdenville, OK | 4,264 | 2,029 | 2.5
Holdrege, NE | 5,454 | 2,590 | 2.9
Holland, MI | 107,034 | 42,839 | 64.8
Hollister, CA | 49,611 | 15,163 | 13.2
Holly Springs, MS | 5,559 | 2,143 | 5.3
Holly, MI | 8,934 | 3,792 | 5.1
Holts Summit, MO | 5,184 | 2,263 | 4.7
Holtville, CA | 6,230 | 2,009 | 1.6
Hondo, TX | 6,006 | 2,403 | 3.0
Honesdale, PA | 5,404 | 2,960 | 4.0
Honolulu, HI | 853,252 | 315,727 | 145.0
Hood River, OR—WA | 16,171 | 7,297 | 9.3
Hoopeston, IL | 4,812 | 2,356 | 2.3
Hope, AR | 8,855 | 4,095 | 7.9
Hopkinsville, KY | 31,696 | 14,731 | 22.8
Hornell, NY | 10,566 | 5,285 | 5.8
Hornsby Bend, TX | 11,337 | 3,772 | 3.8
Horse Cave, KY | 4,262 | 2,167 | 3.7
Horseshoe Bay, TX | 5,583 | 4,331 | 8.5
Hot Springs Village, AR | 12,755 | 7,877 | 20.1
Hot Springs, AR | 59,133 | 31,921 | 50.3
Houghton Lake, MI | 8,521 | 8,859 | 10.9
Houghton—Hancock, MI | 15,358 | 5,955 | 7.9
Houlton, ME | 4,281 | 2,071 | 2.5
Houma, LA | 145,482 | 61,142 | 94.9
Houston, TX | 5,853,575 | 2,232,438 | 1,752.7
Hudson, NY | 10,610 | 5,886 | 6.4
Hudson, WI—MN | 23,743 | 10,292 | 13.7
Hugo, OK | 4,992 | 2,508 | 4.0
Humboldt, IA | 5,339 | 2,518 | 3.7
Humboldt, TN | 7,160 | 3,661 | 5.3
Huntingburg, IN | 6,117 | 2,541 | 3.7
Huntingdon, PA | 11,311 | 3,537 | 4.1
Huntington, IN | 17,555 | 8,013 | 9.8
Huntington, WV—KY—OH | 200,157 | 94,530 | 128.9
Huntsville Southeast, AL | 20,165 | 7,538 | 10.7
Huntsville, AL | 329,066 | 145,066 | 214.8
Huntsville, TX | 43,415 | 15,643 | 17.0
Huron, CA | 6,129 | 1,588 | 1.3
Huron, SD | 14,294 | 6,215 | 7.9
Hurricane, UT | 19,370 | 7,645 | 10.3
Hutchinson, KS | 42,475 | 19,892 | 24.5
Hutchinson, MN | 14,670 | 6,556 | 8.1
Idabel, OK | 5,523 | 2,508 | 4.2
Idaho Falls, ID | 105,132 | 38,357 | 41.3
Ilion—Herkimer, NY | 22,267 | 10,680 | 8.1
Immokalee, FL | 23,485 | 6,928 | 10.6
Incline Village, NV—CA | 19,441 | 19,801 | 21.1
Independence, IA | 6,057 | 2,833 | 4.8
Independence, KS | 8,477 | 4,350 | 4.6
Indian Head, MD | 5,556 | 2,310 | 3.7
Indianapolis, IN | 1,699,881 | 717,732 | 722.5
Indiana—White, PA | 27,693 | 12,704 | 13.8
Indianola, IA | 15,344 | 6,226 | 8.7
Indianola, MS | 9,341 | 3,810 | 5.1
Indiantown, FL | 5,496 | 1,618 | 1.5
Indio—Palm Desert—Palm Springs, CA | 361,075 | 192,446 | 151.8
Inman, SC | 13,269 | 5,440 | 13.7
International Falls, MN | 6,575 | 3,656 | 7.4
Iola, KS | 5,845 | 2,907 | 4.2
Ione, CA | 4,673 | 2,004 | 1.7
Ionia, MI | 15,168 | 3,592 | 4.9
Iowa City, IA | 126,810 | 55,571 | 50.8
Iowa Falls, IA | 5,058 | 2,421 | 4.1
Iowa Park, TX | 6,454 | 2,785 | 3.1
Ipswich, MA | 9,380 | 4,733 | 6.1
Iron Mountain—Kingsford, MI—WI | 18,336 | 9,164 | 13.2
Ironwood, MI—WI | 7,181 | 4,375 | 6.0
Irvine, KY | 4,029 | 2,021 | 2.8
Isanti, MN | 6,621 | 2,454 | 3.2
Ishpeming, MI | 11,298 | 5,357 | 5.8
Ithaca, NY | 59,102 | 25,031 | 24.6
Jackson, CA | 7,781 | 3,918 | 4.8
Jackson, GA | 5,697 | 2,234 | 4.7
Jackson, MI | 84,307 | 36,028 | 52.0
Jackson, MS | 347,693 | 155,654 | 237.2
Jackson, OH | 6,749 | 3,307 | 4.0
Jackson, TN | 72,809 | 32,121 | 47.7
Jackson, WI | 7,962 | 3,551 | 3.6
Jackson, WY | 10,760 | 4,930 | 2.9
Jacksonville, FL | 1,247,374 | 530,649 | 573.3
Jacksonville, IL | 21,003 | 9,559 | 12.2
Jacksonville, NC | 111,224 | 40,962 | 75.7
Jacksonville, TX | 13,881 | 5,546 | 10.5
Jamestown, ND | 15,207 | 7,464 | 9.4
Jamestown, NY | 44,424 | 26,313 | 26.4
Janesville, WI | 72,285 | 31,455 | 36.7
Jasper, AL | 13,274 | 5,781 | 16.7
Jasper, GA | 6,384 | 2,657 | 8.2
Jasper, IN | 16,749 | 7,203 | 11.5
Jasper, TX | 7,000 | 3,373 | 8.5
Jayuya, PR | 9,987 | 4,338 | 8.5
Jeanerette, LA | 5,325 | 2,484 | 2.8
Jefferson City, MO | 50,775 | 23,952 | 34.5
Jefferson, GA | 11,842 | 4,160 | 10.7
Jefferson, WI | 7,566 | 3,329 | 4.6
Jennings, LA | 9,378 | 4,081 | 7.7
Jerome, ID | 12,405 | 4,309 | 5.5
Jersey Shore, PA | 10,009 | 4,469 | 7.3
Jerseyville, IL | 8,641 | 3,948 | 4.8
Jesup, GA | 12,772 | 4,971 | 11.9
Jewett City, CT | 4,706 | 2,210 | 2.6
Johnson City, TN | 128,519 | 60,019 | 106.0
Johnson Lane, NV | 5,268 | 2,242 | 4.1
Johnstown, CO | 19,773 | 6,744 | 5.7
Johnstown, OH | 5,449 | 2,317 | 2.8
Johnstown, PA | 61,521 | 32,490 | 34.7
Jonesboro, AR | 73,781 | 31,507 | 46.5
Jonesboro, LA | 5,245 | 2,354 | 5.7
Joplin, MO | 86,679 | 38,706 | 60.5
Jordan, MN | 6,648 | 2,356 | 3.0
Joshua Tree, CA | 4,370 | 2,525 | 3.8
Juana Díaz, PR | 65,023 | 27,385 | 31.2
Junction City, KS | 40,723 | 15,632 | 24.0
Junction City, OR | 7,312 | 2,987 | 2.8
Juneau, AK | 24,756 | 10,960 | 14.8
Kahului—Wailuku, HI | 57,905 | 18,348 | 13.5
Kailua (Hawaii County), HI | 33,024 | 15,746 | 21.3
Kailua (Honolulu County)—Kaneohe, HI | 118,092 | 40,063 | 29.3
Kalamazoo, MI | 204,562 | 90,906 | 109.5
Kalispell, MT | 36,131 | 15,698 | 18.7
Kankakee, IL | 66,530 | 27,634 | 31.7
Kansas City, MO—KS | 1,674,218 | 729,472 | 714.1
Kapaa, HI | 18,212 | 7,118 | 11.3
Kaplan, LA | 4,656 | 2,343 | 2.5
Kasson, MN | 7,649 | 2,996 | 3.4
Kaufman, TX | 6,127 | 2,290 | 3.1
Kearney, MO | 10,174 | 3,941 | 5.6
Kearney, NE | 34,526 | 14,644 | 18.2
Keene, NH | 22,687 | 10,393 | 14.5
Kekaha, HI | 5,724 | 2,092 | 2.0
Kenai, AK | 8,642 | 3,805 | 13.0
Kendallville, IN | 10,587 | 4,564 | 5.7
Kennett, MO | 10,560 | 4,832 | 6.4
Kennewick—Richland—Pasco, WA | 255,401 | 93,872 | 112.2
Kenosha, WI | 125,865 | 53,111 | 56.2
Kenton, OH | 8,033 | 3,835 | 4.3
Keokuk, IA—IL | 12,351 | 5,929 | 9.0
Kerman, CA | 16,002 | 4,509 | 2.8
Kermit, TX | 6,381 | 2,643 | 2.8
Kerrville, TX | 31,844 | 14,956 | 21.8
Ketchikan, AK | 11,975 | 5,458 | 23.7
Ketchum, ID | 6,346 | 6,698 | 8.0
Kewanee, IL | 12,542 | 5,776 | 6.0
Key Largo, FL | 21,687 | 16,322 | 15.0
Key West, FL | 32,146 | 16,779 | 6.8
Keyser, WV—MD | 6,328 | 3,035 | 3.4
Keystone Heights, FL | 8,218 | 3,760 | 10.2
Kihei, HI | 26,878 | 17,408 | 8.1
Kilgore, TX | 16,719 | 6,776 | 21.8
Kill Devil Hills—Nags Head, NC | 23,851 | 26,763 | 33.6
Killeen, TX | 257,222 | 98,214 | 100.4
Kimberling City, MO | 4,467 | 3,329 | 9.4
King City, CA | 13,760 | 3,603 | 3.0
Kingman, AZ | 46,953 | 20,797 | 22.5
Kings Mountain, NC | 12,619 | 5,513 | 12.1
Kingsburg, CA | 12,602 | 4,506 | 3.9
Kingsland, TX | 8,093 | 4,878 | 10.3
Kingsland—St. Marys, GA | 38,567 | 15,584 | 30.4
Kingsport, TN—VA | 98,411 | 47,217 | 94.1
Kingston, NY | 50,254 | 23,955 | 31.1
Kingstree, SC | 5,250 | 2,590 | 5.1
Kingsville, TX | 24,945 | 11,291 | 12.7
Kinross, MI | 5,100 | 951 | 3.2
Kinston, NC | 21,050 | 10,990 | 17.9
Kirksville, MO | 16,846 | 7,492 | 8.6
Kirtland, NM | 5,737 | 2,044 | 5.9
Kiryas Joel, NY | 71,582 | 19,817 | 28.8
Kissimmee—St. Cloud, FL | 418,404 | 153,652 | 161.6
Kittanning—Ford City, PA | 14,605 | 7,455 | 10.3
Klamath Falls—Altamont, OR | 43,208 | 19,117 | 23.7
Knoxville, IA | 7,561 | 3,486 | 3.8
Knoxville, TN | 597,257 | 263,977 | 431.9
Kodiak—Mill Bay, AK | 9,530 | 3,798 | 5.0
Kokomo, IN | 62,576 | 30,777 | 32.5
Kosciusko, MS | 6,716 | 2,870 | 5.6
Krum, TX | 5,876 | 2,062 | 3.3
Kuna, ID | 23,565 | 7,813 | 6.3
Kutztown, PA | 8,672 | 2,793 | 3.7
La Crosse, WI—MN | 98,872 | 44,018 | 42.2
La Follette, TN | 20,114 | 9,387 | 23.8
La Grande, OR | 14,954 | 6,651 | 6.2
La Grange, KY | 24,556 | 8,138 | 20.2
La Grange, TX | 5,020 | 2,296 | 3.8
La Junta, CO | 7,792 | 3,571 | 3.9
La Plata, MD | 10,536 | 3,920 | 6.3
LaBelle, FL | 13,053 | 4,759 | 8.4
Laconia, NH | 27,267 | 17,637 | 28.4
LaFayette, GA | 6,772 | 3,100 | 6.4
Lafayette, IN | 157,100 | 66,557 | 68.7
Lafayette, LA | 227,316 | 102,033 | 161.2
Lafayette, TN | 6,174 | 2,758 | 5.3
Lafayette—Erie—Louisville, CO | 96,485 | 37,356 | 35.0
Lago Vista (Travis County), TX | 8,463 | 4,303 | 8.4
LaGrange, GA | 35,420 | 14,996 | 31.5
Lahaina—Napili-Honokowai, HI | 21,398 | 11,642 | 5.3
Laie—Hauula, HI | 12,488 | 3,443 | 3.4
Lake Bryant, FL | 3,632 | 2,123 | 3.0
Lake Charles, LA | 162,501 | 71,250 | 127.7
Lake City, FL | 25,334 | 11,058 | 28.6
Lake City, MN | 4,912 | 2,634 | 2.8
Lake City, SC | 6,915 | 3,161 | 5.5
Lake Conroe Eastshore, TX | 12,188 | 5,755 | 7.7
Lake Conroe Westshore, TX | 29,322 | 14,134 | 19.3
Lake Delton, WI | 6,546 | 3,722 | 9.4
Lake Erie Beach, NY | 7,643 | 4,254 | 7.7
Lake Geneva, WI | 10,955 | 6,168 | 6.3
Lake Havasu City, AZ | 59,017 | 36,876 | 33.8
Lake Holiday, IL | 7,313 | 3,211 | 4.3
Lake Isabella, CA | 3,698 | 2,116 | 2.5
Lake Jackson, TX | 56,054 | 24,765 | 34.3
Lake Mills, WI | 6,857 | 3,262 | 4.1
Lake Mohawk, NJ | 13,164 | 5,460 | 8.2
Lake Monticello, VA | 9,825 | 4,320 | 6.3
Lake of the Pines, CA | 4,261 | 2,030 | 2.3
Lake of the Woods, VA | 10,902 | 4,840 | 7.0
Lake Placid, FL | 17,816 | 10,793 | 23.6
Lake Placid, NY | 3,486 | 2,869 | 3.5
Lake Pocotopaug, CT | 7,622 | 3,617 | 7.7
Lake Royale, NC | 2,942 | 2,237 | 3.2
Lakeland, FL | 277,915 | 116,354 | 145.9
Lakeport, CA | 8,994 | 4,352 | 6.2
Lakes of the Four Seasons, IN | 13,113 | 4,794 | 5.4
Lamar, CO | 7,502 | 3,386 | 4.3
Lambertville, NJ—PA | 10,167 | 5,234 | 5.6
Lamesa, TX | 8,731 | 3,952 | 4.3
Lamont, CA | 15,271 | 4,112 | 2.8
Lampasas, TX | 6,674 | 3,004 | 3.9
Lancaster, OH | 43,576 | 19,625 | 20.1
Lancaster, SC | 22,709 | 10,207 | 22.4
Lancaster—Manheim, PA | 394,530 | 162,561 | 181.5
Lander, WY | 6,977 | 3,216 | 3.0
Landrum—Tryon, SC—NC | 4,518 | 2,594 | 5.4
Lansing, MI | 318,300 | 143,060 | 155.8
Lapeer, MI | 12,402 | 5,383 | 8.8
Laplace—Lutcher—Gramercy, LA | 48,681 | 20,059 | 30.8
Laramie, WY | 32,261 | 15,450 | 15.2
Laredo, TX | 251,462 | 79,974 | 64.2
Lares, PR | 28,615 | 13,312 | 30.1
Larned, KS | 3,734 | 2,087 | 2.1
Las Cruces, NM | 139,338 | 60,572 | 64.5
Las Vegas, NM | 14,530 | 7,337 | 7.0
Las Vegas—Henderson—Paradise, NV | 2,196,623 | 884,138 | 435.3
Laughlin, NV | 6,579 | 4,162 | 1.5
Laurel, MS | 25,201 | 10,428 | 20.2
Laurel, MT | 8,789 | 3,736 | 5.9
Laurens, SC | 11,331 | 5,255 | 9.7
Laurinburg, NC | 16,225 | 7,385 | 13.1
Lawrence, KS | 94,998 | 43,472 | 29.9
Lawrenceburg, KY | 13,543 | 5,697 | 6.6
Lawrenceburg, TN | 11,679 | 5,267 | 9.7
Lawrenceville, IL | 4,632 | 2,317 | 2.6
Lawton, OK | 87,464 | 40,042 | 46.8
Le Mars, IA | 10,138 | 4,347 | 5.5
Le Roy, NY | 4,645 | 2,223 | 3.0
Lead, SD | 4,122 | 2,568 | 3.9
Leadville, CO | 4,538 | 2,606 | 2.5
Leavenworth, KS | 47,570 | 17,963 | 21.7
Lebanon, IN | 16,466 | 7,511 | 8.4
Lebanon, KY | 6,209 | 2,783 | 4.9
Lebanon, MO | 14,710 | 6,729 | 12.4
Lebanon, NH—VT | 30,299 | 13,383 | 30.2
Lebanon, OR | 22,327 | 9,125 | 8.5
Lebanon, PA | 75,485 | 31,685 | 32.7
Lebanon, TN | 36,678 | 15,426 | 30.3
Lee, MA | 8,119 | 5,415 | 12.6
Lee's Summit, MO | 91,960 | 36,767 | 37.6
Leesburg—Eustis—Tavares, FL | 151,523 | 75,939 | 86.1
Leesville, LA | 8,328 | 4,376 | 6.9
Lehighton—Palmerton—Jim Thorpe, PA | 18,503 | 8,782 | 9.9
Leisuretowne, NJ | 5,294 | 2,953 | 3.3
Leitchfield, KY | 6,488 | 2,981 | 5.5
Lemoore Station, CA | 6,568 | 1,799 | 5.1
Lemoore, CA | 26,957 | 9,514 | 6.7
Leominster—Fitchburg, MA | 111,790 | 48,267 | 52.9
Leonardtown, MD | 6,092 | 2,397 | 6.2
Levelland, TX | 12,601 | 5,391 | 6.4
Lewes—Rehoboth Beach, DE | 39,681 | 33,284 | 38.3
Lewisburg, TN | 11,934 | 5,207 | 9.4
Lewisburg, WV | 7,227 | 3,856 | 7.0
Lewiston, ID—WA | 54,798 | 24,031 | 27.9
Lewiston, ME | 60,743 | 27,496 | 31.4
Lewistown, MT | 6,024 | 3,182 | 2.9
Lewistown, PA | 20,999 | 10,313 | 12.0
Lexington Park—California—Chesapeake Ranch Estates, MD | 62,352 | 26,209 | 46.7
Lexington, NE | 10,438 | 3,545 | 4.7
Lexington, TN | 6,357 | 3,086 | 6.7
Lexington, VA | 9,460 | 3,499 | 5.3
Lexington-Fayette, KY | 315,631 | 143,074 | 84.0
Libby, MT | 4,341 | 2,194 | 3.5
Liberal, KS | 19,843 | 7,399 | 10.6
Liberty, NY | 5,284 | 2,472 | 3.1
Liberty, TX | 6,387 | 2,607 | 5.4
Lihue, HI | 15,885 | 5,538 | 7.0
Lima, OH | 68,630 | 31,148 | 48.7
Lincoln Beach, OR | 3,626 | 3,515 | 2.9
Lincoln City, OR | 10,494 | 7,831 | 6.7
Lincoln, IL | 13,990 | 6,756 | 8.1
Lincoln, NE | 291,217 | 123,888 | 94.2
Lincoln, NH | 2,005 | 2,751 | 4.9
Lincolnton, NC | 22,657 | 10,130 | 28.4
Lindale—Hideaway, TX | 11,770 | 5,046 | 12.3
Lindsay, CA | 13,942 | 3,936 | 2.9
Lindstrom—Chisago City, MN | 9,152 | 4,161 | 6.2
Linton, IN | 5,298 | 2,621 | 3.0
Litchfield Beach, SC | 15,225 | 10,825 | 17.0
Litchfield, IL | 6,350 | 3,053 | 4.9
Litchfield, MN | 6,569 | 2,863 | 3.9
Little Falls, MN | 9,411 | 4,344 | 7.4
Little Falls, NY | 4,597 | 2,513 | 3.4
Little Rock, AR | 461,864 | 215,096 | 267.8
Littlefield, TX | 5,626 | 2,573 | 3.0
Littlestown, PA | 6,442 | 2,746 | 3.5
Live Oak (Sutter County), CA | 9,080 | 2,847 | 1.7
Live Oak, FL | 6,668 | 2,751 | 5.3
Livermore—Pleasanton—Dublin, CA | 240,381 | 86,809 | 65.3
Livingston, CA | 14,255 | 3,734 | 2.6
Livingston, MT | 9,350 | 4,752 | 4.5
Livingston, TX | 5,592 | 2,377 | 6.9
Lock Haven, PA | 14,625 | 6,807 | 7.9
Lockhart, TX | 12,886 | 5,022 | 8.3
Lockport, NY | 35,958 | 17,025 | 17.7
Lodi, CA | 73,090 | 27,282 | 16.3
Logan, OH | 8,209 | 3,671 | 4.3
Logan, UT | 113,927 | 37,528 | 47.7
Logan, WV | 8,821 | 4,389 | 6.4
Logansport, IN | 20,374 | 8,712 | 10.5
Loíza—Vieques (Loíza Municipio), PR | 15,763 | 8,518 | 4.4
Lompoc, CA | 54,287 | 18,212 | 9.8
London, OH | 10,259 | 4,447 | 5.1
London—Corbin, KY | 36,861 | 16,540 | 47.9
Long Beach, WA | 3,252 | 2,613 | 2.9
Long Neck, DE | 20,169 | 14,343 | 22.0
Longmont, CO | 100,776 | 42,509 | 24.2
Longview, TX | 107,099 | 45,766 | 90.3
Longview, WA—OR | 69,841 | 29,459 | 35.2
Lorain—Elyria, OH | 199,067 | 91,234 | 90.6
Los Alamos, NM | 13,283 | 6,086 | 8.5
Los Angeles—Long Beach—Anaheim, CA | 12,237,376 | 4,354,341 | 1,636.8
Los Banos, CA | 45,533 | 13,193 | 8.4
Los Lunas, NM | 53,365 | 21,248 | 39.4
Los Osos, CA | 13,978 | 6,341 | 3.8
Louisa, KY—WV | 4,582 | 2,114 | 3.6
Louisville/Jefferson County, KY—IN | 974,397 | 438,588 | 400.9
Lovington, NM | 11,765 | 4,266 | 4.8
Lowell, IN | 10,747 | 4,239 | 5.3
Lowell, MI | 7,530 | 3,121 | 5.6
Lubbock, TX | 272,280 | 116,963 | 106.3
Ludington, MI | 11,883 | 7,235 | 12.7
Lufkin, TX | 41,551 | 17,728 | 36.7
Luling, TX | 5,391 | 2,218 | 2.8
Lumberton, NC | 22,256 | 10,432 | 20.4
Luray, VA | 4,742 | 2,225 | 4.1
Luverne, MN | 4,808 | 2,199 | 2.3
Lynchburg, VA | 125,596 | 54,093 | 91.6
Lynden, WA | 15,995 | 6,246 | 5.3
Macclenny, FL | 10,881 | 3,897 | 8.5
Macomb, IL | 15,656 | 8,002 | 8.7
Macon, MO | 5,359 | 2,639 | 5.1
Macon-Bibb County, GA | 140,111 | 65,107 | 99.3
Madera, CA | 81,635 | 22,331 | 21.0
Madison, GA | 4,709 | 2,088 | 4.8
Madison, IN | 17,447 | 7,992 | 10.8
Madison, SD | 6,169 | 2,931 | 4.3
Madison, WI | 450,305 | 203,337 | 149.7
Madisonville, KY | 21,328 | 10,394 | 16.1
Madisonville, TN | 6,070 | 2,687 | 7.2
Madras, OR | 8,087 | 3,131 | 4.7
Magalia, CA | 6,900 | 3,039 | 5.9
Magnolia, AR | 10,403 | 4,483 | 8.8
Mahanoy City, PA | 3,720 | 2,318 | 0.8
Mahomet, IL | 11,922 | 4,713 | 6.9
Malone, NY | 6,885 | 2,992 | 3.5
Malvern, AR | 8,833 | 4,218 | 6.7
Mammoth Lakes, CA | 7,045 | 9,174 | 3.8
Manchester, IA | 4,913 | 2,313 | 3.6
Manchester, NH | 163,289 | 69,559 | 80.6
Manchester, TN | 12,953 | 5,512 | 10.4
Mandeville—Covington, LA | 113,763 | 47,372 | 84.3
Manhattan, IL | 7,826 | 2,774 | 2.9
Manhattan, KS | 60,454 | 27,064 | 25.8
Manistee, MI | 8,093 | 4,590 | 9.1
Manitowoc, WI | 46,558 | 22,208 | 23.5
Mankato, MN | 60,206 | 25,620 | 25.6
Manning, SC | 4,522 | 2,132 | 3.9
Manor, TX | 17,006 | 5,733 | 5.3
Mansfield, LA | 5,602 | 2,620 | 4.1
Mansfield, OH | 73,545 | 33,119 | 47.7
Manteca, CA | 86,674 | 28,725 | 20.5
Manteno, IL | 10,437 | 4,475 | 6.0
Manteo, NC | 6,070 | 3,300 | 5.3
Maquoketa, IA | 6,098 | 2,884 | 3.8
Marana, AZ | 10,618 | 3,623 | 3.3
Marathon, FL | 9,733 | 6,963 | 5.5
Marble Falls, TX | 7,953 | 3,692 | 5.5
Marengo, IL | 7,509 | 3,066 | 3.8
Marianna, FL | 5,560 | 2,724 | 4.3
Maricopa, AZ | 57,771 | 20,897 | 13.2
Marietta, OH—WV | 21,723 | 10,388 | 13.6
Marinette—Menominee, WI—MI | 23,551 | 12,010 | 14.8
Marion Oaks, FL | 19,077 | 7,620 | 16.3
Marion, IN | 40,961 | 19,146 | 21.9
Marion, NC | 12,031 | 5,734 | 13.6
Marion, OH | 42,688 | 17,864 | 18.4
Marion, SC | 7,009 | 3,307 | 5.4
Marion, VA | 7,281 | 3,707 | 7.2
Marion—Herrin, IL | 39,391 | 19,639 | 33.0
Marksville, LA | 6,682 | 3,058 | 6.4
Marlin, TX | 5,396 | 2,430 | 4.1
Marquette, MI | 24,682 | 11,592 | 12.7
Marseilles, IL | 4,660 | 2,212 | 2.4
Marshall, MI | 7,471 | 3,633 | 4.6
Marshall, MN | 13,508 | 5,939 | 8.3
Marshall, MO | 13,471 | 5,261 | 6.8
Marshall, TX | 21,387 | 8,991 | 16.2
Marshalltown, IA | 27,381 | 11,219 | 12.1
Marshfield, MO | 7,537 | 3,204 | 5.3
Marshfield, WI | 19,462 | 9,721 | 11.3
Martin, TN | 10,518 | 4,580 | 8.0
Martinsville, IN | 12,556 | 5,560 | 6.2
Martinsville, VA | 31,273 | 15,866 | 39.8
Marysville, OH | 25,674 | 9,395 | 11.6
Marysville, WA | 160,440 | 58,939 | 67.8
Maryville, MO | 11,212 | 5,175 | 5.6
Mascoutah, IL | 8,528 | 3,354 | 3.2
Mason City, IA | 25,954 | 13,118 | 14.7
Massena, NY | 10,582 | 5,144 | 6.2
Mathis, TX | 5,253 | 2,306 | 3.2
Mattawan, MI | 5,721 | 2,197 | 6.3
Mattoon, IL | 17,111 | 8,711 | 8.3
Mauldin—Simpsonville, SC | 159,506 | 64,676 | 101.2
Mayagüez, PR | 91,583 | 49,990 | 50.1
Mayfield, KY | 12,256 | 5,494 | 9.4
Mayodan, NC | 4,627 | 2,554 | 4.6
Maysville, KY—OH | 9,799 | 5,071 | 9.0
Maytown—Marietta, PA | 7,737 | 3,179 | 3.1
Mayville, WI | 5,189 | 2,386 | 2.7
McAlester, OK | 19,542 | 8,932 | 15.5
McAllen, TX | 779,553 | 269,683 | 326.2
McCall, ID | 3,695 | 4,331 | 6.0
McComb, MS | 15,327 | 7,396 | 13.1
McCook, NE | 7,395 | 3,670 | 5.2
McFarland, CA | 14,149 | 3,410 | 1.9
McGregor, TX | 5,139 | 1,981 | 2.3
McHenry Northwest—Wonder Lake, IL | 5,758 | 2,622 | 2.3
McKenzie, TN | 5,360 | 2,305 | 4.4
McKinleyville, CA | 14,981 | 6,655 | 7.9
McKinney—Frisco, TX | 504,803 | 181,086 | 151.6
McMinnville, OR | 41,831 | 15,738 | 12.8
McMinnville, TN | 15,711 | 7,255 | 13.2
McPherson, KS | 14,039 | 6,202 | 8.6
Meadville, PA | 20,652 | 9,614 | 15.8
Mecca, CA | 6,875 | 1,669 | 0.6
Mechanicville, NY | 11,799 | 5,504 | 6.5
Medford, OR | 171,640 | 73,280 | 63.0
Medford, WI | 4,114 | 2,047 | 3.0
Medina, NY | 6,279 | 2,930 | 3.1
Medina, OH | 46,109 | 19,272 | 27.8
Melissa—Anna, TX | 34,516 | 11,551 | 16.9
Memphis, TN—MS—AR | 1,056,190 | 452,043 | 491.3
Mena, AR | 5,534 | 2,789 | 7.0
Mendota, CA | 13,382 | 2,875 | 4.3
Mendota, IL | 6,918 | 3,043 | 2.9
Menomonie, WI | 17,022 | 6,665 | 10.6
Merced, CA | 150,052 | 47,917 | 43.1
Meredith, NH | 3,411 | 2,391 | 4.9
Meridian, MS | 33,809 | 16,621 | 29.5
Merrill, WI | 9,519 | 4,573 | 7.5
Mesquite, NV—AZ | 19,206 | 10,498 | 10.0
Metropolis, IL | 5,925 | 3,004 | 3.0
Mexia, TX | 6,661 | 2,695 | 4.5
Mexico, MO | 11,351 | 5,198 | 6.7
Miami, OK | 15,348 | 6,901 | 9.2
Miami—Fort Lauderdale, FL | 6,077,522 | 2,622,231 | 1,244.2
Michigan City—La Porte, IN—MI | 71,367 | 37,009 | 49.2
Middlebury, VT | 6,154 | 1,939 | 4.4
Middleport, OH—WV | 5,814 | 3,047 | 5.5
Middlesborough, KY—TN | 13,628 | 6,579 | 11.8
Middleton, ID | 10,265 | 3,418 | 4.5
Middletown, DE | 41,851 | 14,796 | 24.2
Middletown, NY | 61,516 | 24,531 | 26.0
Middletown, OH | 93,608 | 37,928 | 53.6
Midland, MI | 52,340 | 23,885 | 38.1
Midland, TX | 141,997 | 59,089 | 68.3
Midlothian, TX | 30,908 | 10,511 | 24.7
Milan, MI | 7,861 | 2,674 | 3.4
Milan, TN | 7,578 | 3,420 | 6.0
Miles City, MT | 9,227 | 4,518 | 4.6
Milford, DE | 17,754 | 7,450 | 12.0
Milledgeville, GA | 22,441 | 10,341 | 19.8
Millersburg, PA | 4,375 | 2,147 | 1.9
Millington, TN | 12,918 | 5,625 | 12.7
Millinocket, ME | 3,812 | 2,360 | 3.3
Millsboro, DE | 9,844 | 4,574 | 6.6
Milton, PA | 28,610 | 12,335 | 17.9
Milton, VT | 6,417 | 2,701 | 5.5
Milton-Freewater, OR | 8,131 | 3,205 | 3.3
Milwaukee, WI | 1,306,795 | 582,330 | 463.7
Minden, LA | 12,659 | 6,136 | 12.9
Mineola, TX | 5,699 | 2,495 | 5.7
Mineral Wells, TX | 14,211 | 5,987 | 8.9
Minneapolis—St. Paul, MN | 2,914,866 | 1,198,573 | 1,014.8
Minot, ND | 50,925 | 24,508 | 26.7
Minster—New Bremen, OH | 6,138 | 2,459 | 4.2
Mission Viejo—Lake Forest—Laguna Niguel, CA | 646,843 | 261,622 | 163.6
Missoula, MT | 88,109 | 41,026 | 44.3
Mitchell, SD | 15,690 | 7,698 | 9.1
Moab, UT | 7,933 | 4,167 | 6.6
Moberly, MO | 12,163 | 5,797 | 11.4
Mobile, AL | 321,907 | 145,122 | 220.7
Mocksville, NC | 5,971 | 2,594 | 6.4
Modesto, CA | 357,301 | 117,353 | 70.4
Molalla, OR | 10,258 | 3,736 | 2.5
Monahans, TX | 9,162 | 4,019 | 7.3
Monessen, PA | 49,962 | 25,911 | 33.0
Monett, MO | 9,391 | 3,860 | 5.8
Monmouth, IL | 9,189 | 3,890 | 4.2
Monmouth—Independence, OR | 20,912 | 7,434 | 4.9
Monroe, GA | 16,650 | 6,755 | 13.1
Monroe, LA | 119,964 | 53,099 | 91.0
Monroe, MI | 57,260 | 24,843 | 35.3
Monroe, WA | 24,635 | 8,004 | 11.5
Monroe, WI | 10,725 | 5,149 | 4.4
Monroeville, AL | 4,284 | 2,229 | 4.9
Mont Belvieu, TX | 12,180 | 4,061 | 10.8
Montauk, NY | 3,845 | 3,811 | 5.9
Montesano—Elma, WA | 12,682 | 5,360 | 10.0
Montevallo, AL | 6,438 | 2,579 | 5.1
Montevideo, MN | 5,391 | 2,478 | 4.1
Montgomery, AL | 254,348 | 115,435 | 145.1
Monticello, AR | 7,974 | 3,906 | 7.8
Monticello, IL | 5,985 | 2,605 | 3.9
Monticello, IN | 10,635 | 7,338 | 13.1
Monticello, KY | 6,681 | 2,958 | 6.5
Monticello, MN | 15,760 | 6,112 | 8.7
Monticello, NY | 14,328 | 7,407 | 9.9
Montrose, CO | 24,513 | 11,114 | 19.5
Montrose, MN | 5,539 | 2,102 | 2.8
Morehead City—Emerald Isle—Atlantic Beach, NC | 44,300 | 37,416 | 46.9
Morehead, KY | 9,375 | 3,651 | 8.1
Morgan City, LA | 30,236 | 13,561 | 19.7
Morgantown, WV | 77,620 | 37,959 | 40.7
Morrilton, AR | 6,340 | 3,020 | 5.7
Morris, IL | 15,740 | 6,956 | 8.6
Morris, MN | 5,030 | 2,297 | 3.4
Morristown, TN | 66,539 | 28,535 | 63.9
Morro Bay, CA | 13,163 | 9,002 | 5.3
Moscow, ID | 25,914 | 11,301 | 6.4
Moses Lake, WA | 38,751 | 15,228 | 27.7
Moultrie, GA | 19,217 | 8,379 | 19.3
Moundsville, WV | 11,398 | 5,613 | 4.5
Mount Airy, NC | 17,354 | 8,544 | 20.3
Mount Carmel, IL | 6,963 | 3,435 | 4.3
Mount Horeb, WI | 7,730 | 3,116 | 3.0
Mount Pleasant, IA | 9,284 | 3,508 | 6.9
Mount Pleasant, MI | 30,738 | 13,793 | 14.8
Mount Pleasant, TX | 15,419 | 5,636 | 12.7
Mount Plymouth, FL | 6,165 | 2,378 | 4.0
Mount Shasta, CA | 5,203 | 3,032 | 6.0
Mount Sterling, KY | 13,920 | 6,211 | 11.7
Mount Vernon, IA | 6,509 | 2,322 | 3.4
Mount Vernon, IL | 15,288 | 7,686 | 12.8
Mount Vernon, IN | 6,715 | 3,164 | 4.8
Mount Vernon, OH | 18,993 | 8,460 | 9.5
Mount Vernon, WA | 66,825 | 25,909 | 30.7
Mount Washington, KY | 21,516 | 8,377 | 13.0
Mountain Grove, MO | 4,219 | 2,207 | 3.2
Mountain Home, AR | 17,783 | 9,114 | 16.1
Mountain Home, ID | 17,799 | 7,378 | 6.6
Mountain Lake Park, MD | 4,548 | 2,223 | 4.4
Mountain Top, PA | 10,520 | 4,210 | 10.2
Mukwonago, WI | 15,287 | 6,230 | 15.8
Muleshoe, TX | 5,159 | 1,944 | 2.7
Mullins, SC | 4,924 | 2,532 | 4.0
Muncie, IN | 84,382 | 39,372 | 48.2
Muncy, PA | 7,544 | 3,578 | 5.0
Munds Park, AZ | 773 | 2,140 | 1.2
Murfreesboro, TN | 177,313 | 71,867 | 86.1
Murray, KY | 18,958 | 8,635 | 11.8
Muscatine, IA | 25,144 | 10,949 | 16.0
Muskegon—Norton Shores, MI | 166,414 | 72,854 | 112.1
Muskogee, OK | 35,798 | 16,883 | 30.6
Myrtle Beach—North Myrtle Beach, SC—NC | 298,954 | 193,144 | 218.9
Mystic Island—Little Egg Harbor, NJ | 23,074 | 12,466 | 13.0
Nacogdoches, TX | 33,732 | 14,961 | 25.0
Nampa, ID | 177,561 | 62,411 | 65.9
Nantucket, MA | 12,011 | 8,520 | 11.7
Napa, CA | 84,619 | 33,898 | 20.3
Napoleon, OH | 8,868 | 4,104 | 6.2
Nappanee, IN | 7,250 | 3,058 | 4.3
Nashua, NH—MA | 242,984 | 99,686 | 195.6
Nashville, GA | 4,844 | 2,135 | 3.6
Nashville-Davidson, TN | 1,158,642 | 496,886 | 585.0
Natchez, MS—LA | 25,902 | 13,183 | 22.4
Natchitoches, LA | 18,935 | 8,777 | 11.1
Navarre—Miramar Beach—Destin, FL | 226,213 | 121,681 | 119.6
Navasota, TX | 7,458 | 3,021 | 7.1
Nebraska City, NE | 7,020 | 3,090 | 4.2
Needles, CA—AZ | 6,739 | 3,911 | 5.6
Nelsonville, OH | 4,709 | 2,536 | 3.1
Neosho, MO | 12,580 | 5,231 | 9.8
Nephi, UT | 6,330 | 2,117 | 3.5
Nevada, IA | 6,881 | 3,111 | 3.7
Nevada, MO | 8,529 | 4,054 | 6.1
New Albany, MS | 6,763 | 3,134 | 8.2
New Bedford, MA | 155,491 | 68,020 | 59.3
New Bern, NC | 47,988 | 23,605 | 41.3
New Boston, TX | 4,502 | 2,138 | 3.7
New Braunfels, TX | 100,736 | 41,658 | 50.4
New Carlisle, OH | 5,507 | 2,331 | 1.5
New Castle, CO | 5,844 | 2,228 | 2.2
New Castle, IN | 18,555 | 9,020 | 7.7
New Castle, PA | 40,243 | 19,179 | 28.6
New Freedom—Shrewsbury, PA | 12,094 | 4,942 | 6.1
New Haven, CT | 561,456 | 245,569 | 298.0
New Iberia, LA | 37,897 | 17,163 | 24.8
New Lexington, OH | 4,602 | 2,039 | 2.2
New London, WI | 7,804 | 3,535 | 4.6
New Martinsville, WV—OH | 5,608 | 2,872 | 3.9
New Orleans, LA | 914,531 | 421,006 | 239.5
New Paltz, NY | 9,969 | 3,483 | 4.9
New Philadelphia—Dover, OH | 46,776 | 21,186 | 23.8
New Prague, MN | 8,156 | 3,187 | 3.3
New Richmond, WI | 9,486 | 4,114 | 4.6
New Roads, LA | 6,794 | 4,010 | 7.3
New Tazewell—Tazewell, TN | 5,374 | 2,509 | 6.7
New Ulm, MN | 13,435 | 6,091 | 5.8
New York—Jersey City—Newark, NY—NJ | 19,426,449 | 7,657,903 | 3,248.1
Newark, NY | 13,568 | 6,590 | 8.8
Newark, OH | 81,223 | 36,427 | 44.1
Newberg, OR | 30,893 | 11,645 | 10.7
Newberry, SC | 12,342 | 5,409 | 10.4
Newman, CA | 12,387 | 3,751 | 2.1
Newport, AR | 5,947 | 2,933 | 4.6
Newport, OR | 11,731 | 6,668 | 9.4
Newport, TN | 11,576 | 5,520 | 9.9
Newton Falls, OH | 6,604 | 3,344 | 4.5
Newton, IA | 15,943 | 7,446 | 7.1
Newton, KS | 20,378 | 9,015 | 11.4
Newton, NJ | 12,813 | 5,530 | 7.9
Nice, CA | 8,555 | 5,133 | 3.8
Nicholasville, KY | 31,434 | 12,546 | 12.0
Nipomo, CA | 20,303 | 7,868 | 10.2
Nogales, AZ | 19,168 | 7,334 | 12.7
Norfolk, NE | 27,407 | 11,803 | 12.8
Norman, OK | 120,191 | 52,761 | 46.0
North Adams, MA | 25,432 | 12,564 | 16.1
North Bend, WA | 11,762 | 4,626 | 5.6
North Branch, MN | 6,368 | 2,530 | 4.3
North East, PA | 6,513 | 3,010 | 3.5
North Manchester, IN | 5,188 | 2,388 | 2.8
North Platte, NE | 23,582 | 11,414 | 13.0
North Vernon, IN | 6,936 | 3,113 | 5.1
North Windham, ME | 10,271 | 5,183 | 14.0
Northfield, MN | 22,686 | 7,644 | 8.9
Norwalk, OH | 19,269 | 8,722 | 9.9
Norwich, NY | 7,740 | 3,844 | 3.0
Norwich—New London, CT | 167,432 | 77,980 | 116.7
Oak Harbor, WA | 37,449 | 15,291 | 23.7
Oak Island, NC | 15,592 | 14,603 | 15.4
Oak Ridge, NJ | 8,871 | 3,546 | 5.4
Oakdale, CA | 25,408 | 9,353 | 7.4
Oakdale, LA | 6,700 | 2,428 | 4.8
Oakland, TN | 9,389 | 3,816 | 7.9
Oberlin, OH | 8,176 | 2,886 | 2.9
Ocala, FL | 182,647 | 83,908 | 125.0
Ocean Park, WA | 5,411 | 5,642 | 9.0
Ocean Pines—Ocean City, MD—DE | 37,946 | 53,372 | 28.8
Ocean Shores, WA | 6,766 | 5,609 | 8.4
Ocean View, DE | 18,025 | 22,598 | 23.5
Odessa, MO | 5,529 | 2,300 | 2.8
Odessa, TX | 154,818 | 63,127 | 86.0
Oelwein, IA | 6,585 | 3,342 | 4.8
Ogallala, NE | 4,721 | 2,399 | 3.3
Ogden—Layton, UT | 608,857 | 203,545 | 212.6
Ogdensburg, NY | 10,246 | 4,363 | 4.9
Oil City, PA | 13,666 | 6,955 | 8.5
Okeechobee—Taylor Creek, FL | 26,670 | 14,345 | 23.9
Oklahoma City, OK | 982,276 | 426,593 | 421.7
Okmulgee, OK | 11,016 | 5,118 | 7.4
Olean, NY | 21,144 | 9,929 | 13.2
Olney, IL | 8,642 | 4,154 | 6.1
Olympia—Lacey, WA | 208,157 | 87,925 | 106.2
Omaha, NE—IA | 819,508 | 337,786 | 270.8
Omak, WA | 8,165 | 3,682 | 6.0
Oneida, NY | 12,481 | 6,046 | 6.3
Oneonta, AL | 5,624 | 2,285 | 4.4
Oneonta, NY | 16,028 | 6,335 | 7.1
Ontario—Payette, OR—ID | 27,806 | 10,959 | 13.9
Opelousas, LA | 23,498 | 10,611 | 18.6
Opp, AL | 5,325 | 2,495 | 5.2
Orange City, IA | 7,093 | 2,585 | 4.2
Orange Cove, CA | 9,716 | 2,502 | 1.7
Orange, TX | 40,796 | 18,518 | 36.7
Orange, VA | 4,802 | 2,149 | 2.9
Orangeburg, SC | 29,072 | 13,791 | 26.6
Orangetree, FL | 9,791 | 3,432 | 9.3
Oregon, WI | 11,551 | 4,598 | 4.5
Orland, CA | 9,422 | 3,394 | 4.5
Orlando, FL | 1,853,896 | 746,578 | 644.6
Oronoko—Berrien Springs, MI | 6,725 | 2,710 | 3.7
Orosi, CA | 12,795 | 3,262 | 2.0
Oroville, CA | 40,190 | 15,681 | 26.4
Orrville, OH | 8,703 | 3,866 | 5.4
Osage Beach, MO | 6,668 | 7,785 | 13.3
Osceola, AR | 6,244 | 2,963 | 4.4
Osceola, IA | 5,283 | 2,297 | 3.7
Oscoda—Au Sable, MI | 8,558 | 7,258 | 18.6
Oshkosh, WI | 76,190 | 33,084 | 32.8
Oskaloosa, IA | 12,541 | 5,642 | 8.2
Oswego, NY | 24,421 | 10,237 | 11.3
Othello, WA | 10,865 | 3,219 | 4.6
Otsego—Plainwell, MI | 11,819 | 5,043 | 8.4
Ottawa, IL | 20,122 | 9,667 | 10.0
Ottawa, KS | 12,461 | 5,475 | 6.3
Ottawa, OH | 5,418 | 2,357 | 4.8
Ottumwa, IA | 25,019 | 11,060 | 12.8
Owatonna, MN | 26,278 | 11,106 | 12.5
Owego, NY | 4,365 | 2,213 | 3.2
Owensboro, KY | 76,433 | 33,308 | 36.4
Owosso, MI | 22,329 | 10,344 | 13.6
Oxford, MS | 33,518 | 17,650 | 24.3
Oxford, NC | 8,925 | 4,062 | 6.7
Oxford, OH | 23,221 | 7,262 | 7.2
Oxford, PA | 9,925 | 3,795 | 6.6
Oxnard—San Buenaventura (Ventura), CA | 376,117 | 125,620 | 76.6
Ozark, AL | 12,218 | 5,829 | 16.7
Pacific, MO | 8,522 | 3,800 | 6.2
Paducah, KY—IL | 50,833 | 24,494 | 41.4
Page, AZ | 7,022 | 2,799 | 7.2
Pagosa Springs, CO | 5,632 | 4,096 | 6.2
Pahokee, FL | 6,683 | 2,529 | 4.1
Pahrump, NV | 37,498 | 18,442 | 52.4
Paintsville, KY | 5,717 | 2,801 | 4.5
Palatka, FL | 20,032 | 8,830 | 18.3
Palestine, TX | 18,615 | 7,789 | 15.2
Palm Bay—Melbourne, FL | 510,675 | 240,941 | 250.5
Palmdale—Lancaster, CA | 359,559 | 111,858 | 84.8
Palmyra, NY | 4,477 | 2,099 | 2.4
Palmyra, PA | 3,772 | 4,385 | 8.3
Pampa, TX | 16,865 | 8,413 | 8.3
Pana, IL | 5,309 | 2,757 | 3.4
Panama City—Panama City Beach, FL | 162,060 | 107,507 | 119.5
Panther Valley, NJ | 4,279 | 2,087 | 2.2
Paola, KS | 5,553 | 2,538 | 3.1
Paragould, AR | 25,089 | 10,612 | 16.2
Paris, IL | 8,316 | 4,218 | 4.9
Paris, KY | 11,269 | 5,101 | 5.6
Paris, TN | 10,303 | 4,999 | 9.2
Paris, TX | 26,292 | 12,343 | 17.5
Park City—Snyderville, UT | 16,168 | 12,233 | 14.9
Parker, AZ—CA | 5,329 | 2,841 | 4.6
Parkersburg, WV—OH | 62,500 | 30,935 | 39.9
Parlier, CA | 14,522 | 3,841 | 1.8
Parsons, KS | 9,433 | 4,715 | 6.3
Pascagoula—Gautier, MS | 51,454 | 24,371 | 38.6
Patterson, CA | 23,660 | 6,659 | 4.4
Pauls Valley, OK | 5,608 | 2,806 | 3.1
Paw Paw Lake, MI | 7,526 | 4,106 | 6.8
Paw Paw, MI | 5,662 | 2,675 | 5.6
Paxton, IL | 4,528 | 2,036 | 2.1
Payson, AZ | 17,022 | 9,963 | 13.9
Payson—Santaquin, UT | 31,132 | 9,024 | 9.4
Pea Ridge, AR | 6,026 | 2,221 | 3.9
Pearsall, TX | 9,063 | 3,016 | 5.4
Pecan Plantation, TX | 6,831 | 3,229 | 8.1
Pecos, TX | 13,081 | 4,232 | 7.7
Peculiar, MO | 5,564 | 2,227 | 4.8
Pell City, AL | 11,500 | 5,208 | 14.0
Pella, IA | 10,160 | 4,169 | 7.0
Pembroke, NC | 5,694 | 1,682 | 3.6
Pendleton, OR | 17,488 | 7,120 | 10.2
Penn Yan, NY | 8,399 | 5,941 | 6.8
Pennsburg—Upper Hanover—East Greenville, PA | 17,239 | 6,857 | 8.6
Pensacola, FL—AL | 390,172 | 184,298 | 262.5
Peoria, AZ | 19,593 | 8,526 | 7.2
Peoria, IL | 259,781 | 121,278 | 145.8
Pepperell, MA | 6,103 | 2,579 | 5.2
Perry, FL | 6,531 | 2,945 | 5.9
Perry, GA | 14,884 | 6,099 | 13.8
Perry, IA | 7,628 | 3,137 | 2.9
Perry, NY | 4,066 | 2,385 | 2.9
Perry, OK | 4,445 | 2,258 | 3.0
Perryton, TX | 8,391 | 3,580 | 4.0
Perryville, MO | 8,062 | 3,531 | 5.7
Peru, IN | 12,458 | 6,126 | 6.5
Peru—LaSalle, IL | 29,763 | 14,250 | 21.5
Petaluma, CA | 65,227 | 26,392 | 21.0
Petoskey, MI | 12,233 | 8,601 | 15.4
Philadelphia, MS | 7,114 | 3,326 | 7.4
Philadelphia, PA—NJ—DE—MD | 5,696,125 | 2,377,924 | 1,898.2
Philipsburg, PA | 9,379 | 3,886 | 5.1
Phoenix West—Goodyear—Avondale, AZ | 419,946 | 136,070 | 127.6
Phoenix—Mesa—Scottsdale, AZ | 3,976,313 | 1,670,745 | 1,110.5
Picayune, MS | 16,301 | 7,396 | 15.6
Pickens, SC | 5,068 | 2,213 | 4.7
Pierre, SD | 14,755 | 7,004 | 12.0
Pikeville, KY | 10,710 | 4,853 | 10.2
Pine Bluff, AR | 46,683 | 21,423 | 44.5
Pinehurst (Montgomery County)—Magnolia, TX | 9,667 | 3,376 | 8.7
Pinehurst—Southern Pines, NC | 50,319 | 25,063 | 47.6
Pinetop-Lakeside, AZ | 9,393 | 9,313 | 14.6
Piqua, OH | 20,890 | 9,451 | 9.1
Pittsburg, KS | 23,120 | 10,721 | 11.2
Pittsburgh, PA | 1,745,039 | 831,523 | 906.6
Pittsfield, MA | 50,720 | 25,125 | 30.5
Placerville—Diamond Springs, CA | 23,291 | 10,402 | 18.8
Plainview, TX | 22,615 | 9,073 | 11.8
Platte City, MO | 10,707 | 4,330 | 6.0
Platteville, WI | 11,838 | 4,424 | 4.4
Plattsburgh, NY | 28,958 | 13,647 | 24.0
Plattsmouth, NE | 6,655 | 2,908 | 3.0
Pleasant Hill, MO | 8,737 | 3,423 | 4.8
Pleasanton, TX | 13,983 | 5,668 | 9.1
Plumas Lake, CA | 7,337 | 2,226 | 1.9
Plymouth, IN | 12,279 | 5,236 | 9.6
Plymouth, NH | 6,166 | 2,445 | 5.8
Plymouth, WI | 9,011 | 4,281 | 5.3
Pocahontas, AR | 7,164 | 3,141 | 5.0
Pocatello, ID | 72,211 | 29,266 | 27.5
Poinciana Southwest, FL | 16,966 | 6,395 | 11.8
Poinciana, FL | 53,267 | 19,372 | 23.1
Point Pleasant—Gallipolis, WV—OH | 10,544 | 5,510 | 9.4
Point Roberts, WA | 1,191 | 2,175 | 4.9
Pole Ojea, PR | 2,521 | 2,626 | 3.1
Polk City, IA | 5,375 | 1,941 | 2.3
Polson, MT | 5,564 | 3,036 | 4.7
Ponca City, OK | 24,990 | 12,044 | 18.2
Ponce, PR | 118,345 | 58,865 | 31.7
Pontiac, IL | 11,078 | 4,910 | 4.2
Poolesville, MD | 5,685 | 1,910 | 2.9
Poplar Bluff, MO | 20,449 | 9,497 | 15.4
Port Angeles, WA | 24,445 | 11,778 | 16.7
Port Arthur, TX | 116,819 | 47,850 | 66.5
Port Charlotte—North Port, FL | 199,998 | 105,587 | 134.7
Port Hadlock-Irondale, WA | 5,372 | 2,851 | 5.9
Port Huron, MI | 82,226 | 37,996 | 52.5
Port Isabel—South Padre Island—Laguna Vista, TX | 12,413 | 11,230 | 7.3
Port Jervis, NY—PA | 16,187 | 7,573 | 7.6
Port Lavaca, TX | 12,055 | 5,006 | 10.5
Port St. Lucie, FL | 437,745 | 205,720 | 224.2
Port Townsend, WA | 10,042 | 5,633 | 5.9
Portage, PA | 5,661 | 2,721 | 3.6
Portage, WI | 10,555 | 4,681 | 5.2
Portales, NM | 12,202 | 5,384 | 5.3
Porterville, CA | 69,862 | 20,950 | 16.3
Portland, IN | 6,364 | 3,039 | 4.2
Portland, ME | 205,356 | 101,206 | 123.9
Portland, MI | 5,263 | 2,299 | 4.2
Portland, OR—WA | 2,104,238 | 876,555 | 519.3
Portland, TN—KY | 12,285 | 4,779 | 10.9
Portsmouth, NH—ME | 95,090 | 58,308 | 114.3
Portsmouth, OH—KY | 35,346 | 16,550 | 21.3
Potala Pastillo, PR | 5,671 | 2,532 | 1.6
Poteau, OK | 7,826 | 3,293 | 6.4
Potsdam, NY | 8,237 | 2,703 | 2.9
Pottsville, PA | 29,600 | 14,976 | 13.0
Poughkeepsie—Newburgh, NY | 314,766 | 126,555 | 209.9
Powell, WY | 6,485 | 2,885 | 2.6
Prairie du Chien, WI—IA | 6,119 | 3,136 | 5.6
Prairie du Sac—Sauk City, WI | 7,846 | 3,428 | 2.9
Prairie Grove, AR | 5,496 | 2,260 | 2.4
Pratt, KS | 6,589 | 3,130 | 3.7
Prescott Valley East, AZ | 7,229 | 4,225 | 3.7
Prescott—Prescott Valley, AZ | 92,427 | 45,998 | 48.8
Presque Isle, ME | 5,361 | 2,805 | 5.3
Prestonsburg, KY | 6,271 | 3,104 | 6.5
Price, UT | 13,346 | 5,968 | 10.1
Princess Anne, MD | 6,406 | 2,711 | 3.0
Princeton, IL | 7,979 | 3,910 | 6.2
Princeton, IN | 8,343 | 3,995 | 4.2
Princeton, KY | 6,058 | 2,985 | 6.1
Princeton, MN | 4,956 | 2,240 | 4.1
Princeton, TX | 18,184 | 5,936 | 8.2
Princeville, HI | 2,544 | 2,740 | 2.9
Prineville, OR | 12,407 | 5,298 | 8.2
Prosser, WA | 6,589 | 2,525 | 4.7
Providence, RI—MA | 1,285,806 | 554,188 | 544.2
Provincetown, MA | 5,698 | 7,432 | 12.3
Provo—Orem, UT | 588,609 | 172,501 | 161.1
Pryor Creek, OK | 9,436 | 4,243 | 7.2
Pueblo West, CO | 25,413 | 9,795 | 22.1
Pueblo, CO | 120,642 | 52,608 | 54.7
Pukalani—Haiku-Pauwela—Makawao, HI | 23,305 | 9,001 | 16.0
Pulaski, TN | 8,158 | 3,779 | 5.0
Pulaski, VA | 16,588 | 7,616 | 15.4
Pullman, WA | 32,691 | 13,588 | 8.1
Punxsutawney, PA | 6,199 | 3,359 | 3.8
Pupukea, HI | 15,509 | 6,503 | 7.8
Purcell, OK | 7,327 | 3,111 | 4.8
Purcellville, VA | 16,475 | 5,316 | 7.5
Putnam—Killingly, CT | 34,582 | 15,702 | 31.0
Quartzsite, AZ | 2,280 | 2,543 | 3.3
Quincy, FL | 8,541 | 3,584 | 6.2
Quincy, IL | 43,427 | 20,724 | 22.7
Quincy, WA | 7,846 | 2,526 | 5.2
Racine, WI | 134,877 | 58,182 | 52.3
Radford, VA | 19,521 | 8,268 | 11.1
Rainbow Springs, FL | 4,667 | 2,540 | 5.7
Raleigh, NC | 1,106,646 | 455,527 | 554.8
Ramona, CA | 14,837 | 5,076 | 6.9
Rancho Calaveras, CA | 8,164 | 3,212 | 7.2
Ranson—Charles Town, WV | 21,569 | 8,883 | 11.4
Rantoul, IL | 13,654 | 6,328 | 9.0
Rapid City, SD | 85,679 | 38,024 | 50.3
Rathdrum, ID | 9,241 | 3,485 | 4.0
Raton, NM | 5,629 | 3,204 | 4.7
Ravena—Bethlehem, NY | 9,346 | 4,435 | 11.8
Rawlins, WY | 7,700 | 4,067 | 4.8
Raymond, NH | 5,266 | 2,317 | 6.1
Raymondville, TX | 12,986 | 3,991 | 5.6
Rayne, LA | 8,493 | 3,811 | 4.8
Reading, PA | 276,278 | 110,684 | 96.1
Red Bluff, CA | 19,826 | 8,274 | 10.0
Red Oak, IA | 5,516 | 2,757 | 2.9
Red Wing, MN | 14,857 | 6,869 | 8.2
Redding, CA | 120,602 | 51,389 | 67.1
Redmond, OR | 33,293 | 13,308 | 14.3
Redwood Falls, MN | 4,608 | 2,247 | 3.3
Reedley—Dinuba, CA | 49,614 | 14,113 | 9.7
Reedsburg, WI | 10,067 | 4,481 | 5.7
Reedsport, OR | 4,503 | 2,283 | 2.1
Reidsville, NC | 14,653 | 7,315 | 12.8
Reno, NV—CA | 446,529 | 187,560 | 165.4
Rensselaer, IN | 5,509 | 2,510 | 3.2
Republic, MO | 18,446 | 7,323 | 7.5
Rexburg, ID | 41,330 | 10,591 | 9.4
Rhinelander, WI | 9,738 | 5,016 | 10.0
Rice Lake, WI | 10,156 | 4,991 | 8.3
Richfield, UT | 8,393 | 3,020 | 4.7
Richland Center, WI | 4,924 | 2,452 | 2.8
Richlands, VA | 8,746 | 4,547 | 8.3
Richmond, IN—OH | 43,130 | 20,795 | 24.9
Richmond, KY | 42,999 | 19,014 | 23.6
Richmond, MI | 6,034 | 2,628 | 3.0
Richmond, MO | 5,857 | 2,738 | 4.4
Richmond, VA | 1,059,150 | 447,842 | 512.3
Ridgecrest, CA | 29,307 | 13,017 | 14.3
Ridgefield, CT | 25,683 | 10,075 | 28.8
Ridgefield, WA | 10,356 | 3,714 | 6.4
Ridgway, PA | 4,259 | 2,132 | 2.5
Rifle, CO | 11,469 | 4,082 | 4.0
Rigby, ID | 10,283 | 3,361 | 7.6
Rincon, GA | 14,113 | 5,514 | 8.8
Rio Grande City—Roma, TX | 47,070 | 16,204 | 19.5
Rio Verde, AZ | 2,765 | 2,088 | 3.1
Rio Vista, CA | 9,942 | 5,187 | 3.6
Ripley, TN | 6,922 | 3,154 | 7.5
Ripon, CA | 15,829 | 5,596 | 4.2
Ripon, WI | 8,059 | 3,581 | 4.3
Rising Sun, MD | 5,788 | 2,301 | 5.2
River Falls, WI | 16,344 | 6,005 | 6.3
Riverhead—Southold, NY | 51,120 | 26,502 | 52.8
Riverside—San Bernardino, CA | 2,276,703 | 683,675 | 608.6
Riverton, WY | 11,234 | 5,079 | 6.9
Roanoke Rapids, NC | 23,400 | 11,171 | 15.8
Roanoke, VA | 217,312 | 100,135 | 125.5
Roaring Spring, PA | 6,239 | 2,929 | 5.6
Robertsdale, AL | 7,429 | 3,003 | 5.9
Robinson, IL | 6,134 | 3,202 | 4.5
Robstown, TX | 10,775 | 4,198 | 3.7
Rochelle, IL | 11,013 | 4,767 | 9.6
Rochester, IN | 7,333 | 3,706 | 5.1
Rochester, MN | 121,587 | 53,319 | 51.6
Rochester, NY | 704,327 | 314,417 | 291.8
Rock Hill, SC | 218,443 | 89,706 | 145.1
Rock Springs, WY | 25,853 | 11,777 | 13.7
Rockaway Beach, OR | 1,761 | 2,552 | 2.1
Rockdale, TX | 5,464 | 2,537 | 3.3
Rockford, IL | 276,443 | 119,742 | 133.8
Rockingham, NC | 23,833 | 11,098 | 23.1
Rockland, ME | 9,868 | 5,764 | 13.2
Rockmart, GA | 7,743 | 3,265 | 8.1
Rockport, TX | 16,217 | 10,898 | 19.1
Rocky Mount, NC | 63,297 | 30,235 | 45.0
Rocky Mount, VA | 5,411 | 2,585 | 6.8
Rogersville, TN | 6,154 | 2,972 | 6.1
Rolla, MO | 20,610 | 9,555 | 11.6
Rome, GA | 60,403 | 24,813 | 44.9
Rome, NY | 29,222 | 14,264 | 17.3
Roosevelt, UT | 6,316 | 2,361 | 3.3
Rosamond, CA | 17,538 | 6,395 | 5.6
Roseburg, OR | 43,484 | 19,020 | 20.6
Roswell, NM | 48,831 | 20,562 | 25.1
Round Lake Beach—McHenry—Grayslake, IL—WI | 261,835 | 104,091 | 127.6
Roxboro, NC | 9,500 | 4,590 | 8.1
Roxborough Park, CO | 9,090 | 3,299 | 3.8
Royse City, TX | 13,922 | 4,799 | 6.1
Ruidoso, NM | 11,042 | 11,251 | 16.9
Rumford, ME | 5,585 | 3,064 | 3.1
Running Springs, CA | 5,313 | 3,710 | 3.6
Rupert, ID | 6,534 | 2,532 | 2.8
Rushville, IN | 6,469 | 3,009 | 2.9
Russell, KS | 4,066 | 2,130 | 2.3
Russells Point, OH | 6,451 | 6,341 | 6.2
Russellville, AL | 9,939 | 3,847 | 6.9
Russellville, AR | 31,870 | 13,319 | 19.5
Russellville, KY | 6,641 | 3,252 | 6.7
Ruston, LA | 28,839 | 11,814 | 24.4
Rutland, VT | 19,550 | 10,162 | 13.7
Sacramento, CA | 1,946,618 | 726,246 | 467.6
Safford, AZ | 18,331 | 7,461 | 10.5
Saginaw, MI | 116,058 | 54,759 | 65.7
Sahuarita, AZ | 17,276 | 5,718 | 4.8
Salamanca, NY | 6,375 | 3,131 | 5.0
Salem, IL | 7,153 | 3,350 | 4.9
Salem, IN | 6,617 | 3,016 | 4.0
Salem, MO | 4,684 | 2,359 | 3.2
Salem, NJ | 5,927 | 2,861 | 3.1
Salem, OH | 15,924 | 7,617 | 10.6
Salem, OR | 268,331 | 101,688 | 72.7
Salida, CO | 5,953 | 3,415 | 2.8
Salina, KS | 46,547 | 20,770 | 22.5
Salinas, CA | 177,532 | 48,914 | 29.9
Salinas—Coco, PR | 13,938 | 7,628 | 5.2
Salisbury, MD—DE | 78,075 | 32,638 | 48.4
Sallisaw, OK | 7,513 | 3,431 | 5.4
Salt Lake City, UT | 1,178,533 | 424,925 | 300.4
San Angelo, TX | 99,982 | 43,410 | 49.3
San Antonio, TX | 1,992,689 | 789,482 | 613.4
San Diego Country Estates, CA | 7,002 | 2,450 | 3.3
San Diego, CA | 3,070,300 | 1,149,240 | 674.7
San Francisco—Oakland, CA | 3,269,385 | 1,288,912 | 428.7
San Germán—Cabo Rojo—Sabana Grande, PR | 97,241 | 51,393 | 70.6
San Jose, CA | 1,837,446 | 658,649 | 285.5
San Juan, PR | 1,844,410 | 888,356 | 763.6
San Luis Obispo, CA | 56,904 | 22,210 | 14.1
San Luis, AZ | 24,790 | 6,634 | 3.7
San Marcos, TX | 70,801 | 30,583 | 24.4
San Rafael—Novato, CA | 246,548 | 102,961 | 85.1
Sandersville, GA | 7,097 | 3,344 | 8.3
Sandpoint, ID | 12,824 | 6,419 | 9.3
Sandusky—Port Clinton, OH | 61,743 | 39,351 | 53.8
Sandy, OR | 13,173 | 4,899 | 4.2
Sanford, ME | 15,067 | 6,885 | 6.0
Sanford, NC | 36,641 | 15,279 | 34.3
Sanger, CA | 27,325 | 7,986 | 4.8
Sanger, TX | 8,279 | 3,144 | 4.4
Santa Barbara, CA | 202,197 | 79,353 | 54.8
Santa Clarita, CA | 278,031 | 93,011 | 77.8
Santa Cruz, CA | 169,038 | 72,855 | 60.5
Santa Fe, NM | 94,241 | 47,331 | 46.8
Santa Isabel, PR | 9,742 | 4,866 | 3.0
Santa Maria, CA | 143,609 | 42,245 | 27.1
Santa Paula, CA | 30,675 | 9,189 | 5.0
Santa Rosa, CA | 297,329 | 116,326 | 79.4
Saranac Lake, NY | 5,163 | 3,084 | 3.1
Saratoga Springs, NY | 75,684 | 37,354 | 55.6
Sauk Centre, MN | 4,849 | 2,256 | 4.7
Sault Ste. Marie, MI | 12,877 | 6,042 | 8.2
Savannah, GA | 309,466 | 136,572 | 205.8
Savannah, MO | 5,253 | 2,301 | 3.3
Savannah, TN | 8,828 | 4,124 | 8.9
Sayre—Waverly, PA—NY | 17,262 | 8,295 | 8.0
Scappoose, OR | 9,652 | 4,025 | 5.8
Schuyler, NE | 6,522 | 2,031 | 2.6
Schuylkill Haven—Orwigsburg, PA | 14,265 | 6,482 | 10.3
Scott City, MO | 4,949 | 2,238 | 4.7
Scottsbluff, NE | 25,104 | 11,342 | 14.7
Scottsboro, AL | 10,791 | 5,239 | 12.3
Scottsburg, IN | 7,578 | 3,510 | 4.8
Scottsville, KY | 4,637 | 2,192 | 4.8
Scranton, PA | 366,713 | 172,990 | 162.2
Seabrook Island, SC | 3,371 | 5,286 | 8.4
Seaford—Laurel—Bridgeville, DE | 29,147 | 11,999 | 23.6
Sealy, TX | 6,385 | 2,718 | 5.7
Searcy, AR | 26,652 | 11,658 | 21.3
Seaside, OR | 9,183 | 6,525 | 5.0
Seaside—Monterey—Pacific Grove, CA | 123,495 | 54,906 | 41.2
Seattle—Tacoma, WA | 3,544,011 | 1,468,039 | 982.5
Sebastopol, CA | 18,734 | 8,245 | 15.2
Sebring—Avon Park, FL | 63,297 | 35,215 | 44.5
Sedalia, MO | 26,043 | 12,068 | 17.0
Sedona, AZ | 9,190 | 6,317 | 12.5
Seguin, TX | 28,998 | 12,250 | 20.0
Selma, AL | 21,207 | 10,472 | 18.3
Selma, CA | 32,546 | 9,737 | 9.1
Seminole, OK | 6,283 | 2,870 | 5.4
Seminole, TX | 7,068 | 2,807 | 3.4
Senatobia, MS | 6,817 | 2,275 | 3.9
Seneca, SC | 23,105 | 11,870 | 31.0
Sequim, WA | 24,864 | 12,889 | 31.9
Severance, CO | 6,408 | 2,095 | 1.9
Sevierville, TN | 34,032 | 18,818 | 46.4
Seward, NE | 7,473 | 2,959 | 3.5
Seymour, IN | 24,247 | 9,807 | 14.4
Seymour, TN | 15,219 | 6,297 | 13.9
Shafter, CA | 19,278 | 5,133 | 4.8
Shamokin—Mount Carmel, PA | 28,461 | 14,721 | 7.9
Sharon—Hermitage, PA—OH | 42,169 | 21,194 | 28.2
Shawano, WI | 12,229 | 6,869 | 10.7
Shawnee, OK | 34,245 | 14,979 | 18.9
Sheboygan, WI | 74,369 | 33,437 | 35.3
Shelby, NC | 25,955 | 12,007 | 25.5
Shelby, OH | 9,317 | 4,348 | 5.0
Shelbyville, IL | 4,872 | 2,447 | 3.1
Shelbyville, IN | 21,208 | 9,460 | 9.7
Shelbyville, KY | 23,143 | 9,241 | 11.5
Shelbyville, TN | 22,552 | 8,594 | 13.2
Sheldon, IA | 5,381 | 2,373 | 2.8
Shelley, ID | 5,109 | 1,726 | 2.2
Shelton, WA | 14,907 | 5,704 | 11.7
Shenandoah, IA | 4,872 | 2,511 | 3.0
Shenandoah—Frackville, PA | 12,025 | 5,638 | 2.9
Sheridan, AR | 4,710 | 2,116 | 4.5
Sheridan, OR | 6,464 | 1,742 | 1.7
Sheridan, WY | 19,430 | 9,347 | 13.0
Sherman—Denison, TX | 66,691 | 28,718 | 38.5
Shinnston, WV | 4,361 | 2,057 | 4.0
Shippensburg, PA | 17,014 | 7,339 | 9.9
Shiprock, NM | 6,190 | 1,928 | 5.2
Show Low, AZ | 12,173 | 8,869 | 12.6
Shreveport, LA | 288,052 | 133,212 | 180.8
Sidney, MT | 6,522 | 3,166 | 7.0
Sidney, NE | 6,232 | 3,154 | 4.4
Sidney, NY | 4,247 | 2,295 | 2.8
Sidney, OH | 20,734 | 9,280 | 10.5
Sierra Vista, AZ | 54,274 | 24,495 | 28.3
Sikeston, MO | 17,683 | 7,951 | 13.1
Siler City, NC | 8,616 | 3,228 | 5.2
Siloam Springs, AR—OK | 18,027 | 6,734 | 9.5
Silsbee, TX | 9,234 | 4,130 | 12.1
Silver City, NM | 11,817 | 6,002 | 10.8
Silver Creek, NY | 3,566 | 2,044 | 2.5
Silver Lakes, CA | 5,908 | 2,649 | 2.1
Silverthorne—Keystone, CO | 13,867 | 11,960 | 11.1
Silverton, OR | 10,909 | 4,306 | 3.7
Simi Valley, CA | 127,364 | 44,405 | 31.6
Sinton, TX | 5,661 | 2,203 | 2.3
Sioux Center, IA | 8,222 | 2,664 | 5.6
Sioux City, IA—NE—SD | 113,066 | 44,463 | 55.0
Sioux Falls, SD | 194,283 | 84,183 | 67.9
Sitka, AK | 7,668 | 3,663 | 6.6
Skiatook, OK | 7,342 | 2,998 | 4.2
Skowhegan, ME | 4,795 | 2,437 | 2.9
Slatington, PA | 8,362 | 3,751 | 3.9
Slaton, TX | 5,678 | 2,464 | 2.8
Slidell, LA | 91,587 | 38,048 | 52.5
Slippery Rock, PA | 7,226 | 2,905 | 4.5
Smithfield, NC | 21,921 | 9,420 | 17.0
Smithfield, VA | 9,725 | 4,086 | 7.1
Smithville, MO | 9,684 | 3,818 | 6.8
Smithville, TN | 4,825 | 2,062 | 4.0
Snoqualmie, WA | 17,070 | 5,841 | 6.8
Snowflake, AZ | 5,342 | 1,929 | 3.8
Snowmass Village, CO | 2,392 | 2,048 | 2.2
Snyder, TX | 11,547 | 4,783 | 7.2
Socorro, NM | 8,122 | 3,894 | 5.4
Soldotna, AK | 4,646 | 2,405 | 5.1
Soledad, CA | 18,946 | 4,492 | 2.4
Solvang—Santa Ynez, CA | 10,295 | 4,330 | 5.5
Somerset, KY | 30,832 | 14,671 | 38.9
Somerset, PA | 10,098 | 4,655 | 6.9
Somerton, AZ | 13,847 | 4,035 | 2.0
Sonoma, CA | 31,479 | 14,704 | 14.1
Sonora—Twain Harte, CA | 29,013 | 16,017 | 29.1
Sonterra, TX | 9,024 | 3,182 | 3.1
South Bend, IN—MI | 278,921 | 121,637 | 147.9
South Berwick, ME—NH | 5,584 | 2,319 | 4.2
South Boston, VA | 7,413 | 3,723 | 6.2
South Haven, MI | 6,357 | 5,509 | 9.4
South Hill, VA | 5,076 | 2,469 | 6.2
South Lake Tahoe, CA—NV | 31,363 | 23,573 | 19.4
South Lyon—Hamburg—Genoa, MI | 145,963 | 61,107 | 119.5
South Paris, ME | 4,371 | 2,198 | 4.1
South Pittsburg—Bridgeport, TN—AL | 4,687 | 2,354 | 5.5
Southbridge Town, MA | 20,789 | 9,359 | 11.5
Sparta, MI | 5,630 | 2,382 | 4.3
Sparta, TN | 5,691 | 2,541 | 7.1
Sparta, WI | 10,185 | 4,461 | 5.2
Spartanburg, SC | 196,943 | 82,772 | 181.0
Spearfish, SD | 13,206 | 6,442 | 7.9
Spencer, IA | 10,967 | 5,442 | 6.1
Spencer, MA | 8,196 | 4,097 | 5.2
Spicer—New London, MN | 3,358 | 2,213 | 4.3
Spirit Lake, IA | 12,956 | 10,781 | 14.9
Spokane, WA | 447,279 | 187,977 | 171.7
Spout Springs, NC | 18,281 | 6,078 | 12.7
Spring Hill, FL | 169,050 | 75,458 | 127.2
Spring Hill, KS | 7,344 | 2,691 | 3.1
Spring Hill, TN | 60,309 | 22,018 | 23.3
Springfield, IL | 159,265 | 77,296 | 81.7
Springfield, MA—CT | 442,145 | 186,392 | 201.8
Springfield, MO | 282,651 | 129,736 | 134.3
Springfield, OH | 82,369 | 38,075 | 45.1
Springfield, TN | 18,430 | 7,235 | 9.0
Springfield, VT | 5,140 | 2,660 | 4.4
Springhill, LA | 5,931 | 3,103 | 7.4
St. Albans, VT | 11,368 | 5,232 | 8.0
St. Augustine, FL | 91,786 | 48,906 | 57.8
St. Clair, MO | 6,303 | 2,735 | 3.9
St. Cloud, MN | 117,638 | 48,944 | 54.0
St. Francis, MN | 6,157 | 2,294 | 3.9
St. George, UT | 134,109 | 55,868 | 61.0
St. Helen, MI | 2,522 | 2,342 | 3.5
St. Helena, CA | 6,086 | 3,050 | 4.5
St. Helens, OR | 19,112 | 7,794 | 9.5
St. Ignace, MI | 3,457 | 2,336 | 5.7
St. James City, FL | 2,055 | 2,000 | 1.9
St. James, NC | 7,029 | 4,434 | 9.0
St. Johns, MI | 8,370 | 3,827 | 4.9
St. Johnsbury, VT | 4,883 | 2,472 | 3.2
St. Joseph, MO—KS | 77,187 | 35,119 | 44.3
St. Louis, MO—IL | 2,156,323 | 975,765 | 910.4
St. Martinville, LA | 6,399 | 3,077 | 4.1
St. Marys, OH | 9,452 | 4,211 | 4.8
St. Marys, PA | 9,402 | 4,552 | 7.2
St. Peter, MN | 12,145 | 4,119 | 5.0
Stafford Springs, CT | 5,107 | 2,577 | 5.2
Stansbury Park, UT | 12,804 | 3,586 | 3.1
Stanwood, WA | 7,678 | 2,983 | 2.7
Star, ID | 10,673 | 3,894 | 3.9
Starke, FL | 6,486 | 2,690 | 5.9
Starkville, MS | 32,812 | 16,188 | 19.3
State College, PA | 83,674 | 33,591 | 25.9
Statesboro, GA | 44,488 | 17,978 | 28.3
Statesville, NC | 39,829 | 17,252 | 37.5
Staunton, IL | 4,866 | 2,309 | 3.1
Staunton—Waynesboro, VA | 59,065 | 27,498 | 39.1
Stayton, OR | 11,122 | 4,366 | 3.8
Ste. Genevieve, MO | 4,988 | 2,097 | 3.1
Steamboat Springs, CO | 14,455 | 10,532 | 10.1
Stephenville, TX | 20,852 | 8,447 | 9.4
Sterling, CO | 12,278 | 5,658 | 5.4
Sterling, IL | 27,602 | 13,193 | 14.6
Steubenville—Weirton, OH—WV—PA | 64,981 | 31,580 | 46.3
Stevens Point, WI | 44,185 | 19,540 | 25.1
Stevensville—Chester—Romancoke, MD | 18,874 | 8,258 | 17.6
Stewartville, MN | 6,635 | 2,685 | 2.7
Stillwater, MN—WI | 31,474 | 12,975 | 16.2
Stillwater, OK | 48,237 | 22,072 | 25.1
Stockton, CA | 414,847 | 129,251 | 92.5
Storm Lake, IA | 11,860 | 4,117 | 3.9
Storrs, CT | 17,747 | 3,510 | 7.9
Stoughton, WI | 15,511 | 7,015 | 6.7
Strasburg, VA | 7,572 | 3,294 | 4.1
Streator, IL | 16,209 | 7,821 | 8.1
Sturgeon Bay, WI | 9,429 | 5,580 | 6.9
Sturgis, MI | 11,943 | 4,927 | 6.2
Sturgis, SD | 7,076 | 3,431 | 4.0
Stuttgart, AR | 8,132 | 4,049 | 5.9
Suffolk, VA | 42,480 | 17,157 | 23.8
Sugarmill Woods, FL | 12,948 | 7,100 | 15.7
Sullivan, IL | 4,414 | 2,043 | 2.8
Sullivan, IN | 4,874 | 2,446 | 2.7
Sullivan, MO | 7,227 | 3,384 | 6.1
Sullivan—Sylvan Beach, NY | 3,251 | 2,348 | 3.9
Sulphur Springs, TX | 14,683 | 6,547 | 10.8
Sulphur, OK | 4,847 | 2,174 | 3.3
Sultan, WA | 5,665 | 2,105 | 3.1
Summerset, SD | 5,325 | 2,119 | 3.4
Summerville, GA | 10,227 | 4,185 | 8.4
Summit Park, UT | 7,317 | 2,901 | 3.6
Sumter, SC | 68,825 | 30,795 | 57.7
Sunbury, OH | 7,017 | 2,636 | 3.3
Sunbury, PA | 28,249 | 12,642 | 13.7
Sunderland—South Deerfield, MA | 5,048 | 2,540 | 6.9
Sunnyside, WA | 17,140 | 5,081 | 5.6
Susanville, CA | 8,995 | 4,233 | 3.2
Sutherlin, OR | 9,656 | 4,221 | 5.2
Swainsboro, GA | 7,251 | 3,111 | 8.0
Swansboro—Cedar Point, NC | 20,542 | 10,284 | 25.5
Swatara, PA | 6,312 | 2,535 | 5.0
Sweet Home, OR | 10,088 | 4,128 | 5.2
Sweetwater, TN | 6,468 | 2,881 | 7.1
Sweetwater, TX | 10,372 | 5,035 | 7.5
Sylacauga, AL | 16,980 | 8,382 | 19.3
Sylva, NC | 5,118 | 2,497 | 7.2
Sylvester, GA | 6,146 | 2,726 | 5.9
Syracuse, IN | 7,393 | 4,870 | 6.7
Syracuse, NY | 413,660 | 183,948 | 180.5
Taft, CA | 15,022 | 5,294 | 3.6
Tafuna—Pago Pago, AS | 37,652 | 8,742 | 15.0
Tahlequah, OK | 17,975 | 8,286 | 11.8
Talladega, AL | 12,609 | 5,687 | 10.1
Tallahassee, FL | 252,934 | 116,829 | 125.5
Tallulah, LA | 6,988 | 3,029 | 3.7
Tama, IA | 5,263 | 2,161 | 2.9
Tamaqua, PA | 15,158 | 7,661 | 2.5
Tampa—St. Petersburg, FL | 2,783,045 | 1,286,258 | 968.9
Taneytown, MD | 7,158 | 2,813 | 2.3
Taos, NM | 15,665 | 8,607 | 18.9
Tarboro, NC | 12,059 | 5,743 | 8.5
Taylor, TX | 15,147 | 5,969 | 7.0
Taylorville, IL | 11,525 | 5,784 | 5.5
Tazewell, VA | 4,666 | 2,295 | 5.2
Tea, SD | 5,595 | 1,967 | 3.3
Tecumseh, MI | 13,684 | 5,914 | 10.1
Tehachapi—Golden Hills, CA | 17,298 | 7,041 | 8.1
Tell City, IN—KY | 9,541 | 4,754 | 5.1
Tellico Village, TN | 7,156 | 4,026 | 6.9
Telluride—Mountain Village, CO | 4,587 | 4,347 | 6.9
Temecula—Murrieta—Menifee, CA | 528,991 | 174,148 | 150.5
Temple, TX | 114,632 | 47,995 | 58.4
Terre Haute, IN | 79,862 | 35,852 | 46.8
Terrell, TX | 16,581 | 6,180 | 12.3
Texarkana, TX—AR | 78,744 | 35,054 | 66.6
The Dalles, OR | 17,398 | 7,216 | 7.7
The Pinery, CO | 14,662 | 5,025 | 9.2
The Villages—Lady Lake, FL | 161,736 | 98,242 | 98.5
The Woodlands—Conroe, TX | 402,454 | 153,788 | 219.1
Thief River Falls, MN | 8,892 | 4,535 | 5.3
Thomaston, GA | 14,765 | 6,679 | 10.4
Thomasville, GA | 25,231 | 11,627 | 22.3
Thomson, GA | 8,788 | 3,892 | 8.3
Thousand Oaks, CA | 213,986 | 79,133 | 80.2
Three Rivers, MI | 10,166 | 4,365 | 8.7
Thurmont, MD | 6,789 | 2,880 | 3.8
Tiffin, OH | 20,284 | 9,154 | 9.2
Tifton, GA | 24,580 | 10,511 | 18.4
Tillamook, OR | 6,166 | 2,712 | 2.7
Tiltonsville—Brilliant, OH | 4,115 | 2,163 | 3.2
Tippecanoe, IN | 3,713 | 3,109 | 4.1
Tipton, IN | 5,668 | 2,627 | 2.4
Titusville, FL | 62,459 | 29,966 | 40.0
Titusville, PA | 5,219 | 2,569 | 2.2
Toccoa, GA | 11,807 | 5,219 | 12.6
Toledo, OH—MI | 497,952 | 229,911 | 240.7
Tomah, WI | 9,818 | 4,560 | 7.0
Tonganoxie, KS | 5,489 | 2,154 | 2.7
Tooele, UT | 34,892 | 11,507 | 11.5
Topeka, KS | 148,956 | 68,882 | 84.2
Toppenish, WA | 10,057 | 2,823 | 3.1
Torrington, CT | 35,212 | 17,184 | 21.8
Torrington, WY | 6,436 | 3,187 | 3.6
Towanda, PA | 4,029 | 2,069 | 2.9
Tracy—Mountain House, CA | 120,912 | 36,775 | 27.1
Traverse City—Garfield, MI | 56,890 | 28,936 | 52.4
Treasure Lake, PA | 4,677 | 2,735 | 3.3
Tremonton, UT | 11,898 | 3,904 | 6.7
Trenton, MO | 5,426 | 2,859 | 4.3
Trenton, NJ | 370,422 | 144,898 | 133.1
Tri-City—Myrtle Creek, OR | 8,656 | 3,769 | 5.0
Trinidad, CO | 8,323 | 4,362 | 4.8
Troy, AL | 14,466 | 6,857 | 9.8
Troy, MO | 16,669 | 6,408 | 9.0
Troy, OH | 43,259 | 18,944 | 21.6
Truckee, CA | 12,756 | 11,624 | 19.4
Trumann, AR | 7,233 | 3,143 | 4.3
Truth or Consequences, NM | 7,713 | 5,603 | 8.2
Tuba City, AZ | 7,942 | 2,546 | 5.6
Tucson, AZ | 875,441 | 398,383 | 357.3
Tucumcari, NM | 5,217 | 2,872 | 3.8
Tulare, CA | 70,628 | 21,714 | 17.7
Tullahoma, TN | 19,297 | 8,558 | 14.8
Tulsa, OK | 722,810 | 314,048 | 338.3
Tupelo, MS | 40,233 | 18,370 | 43.3
Tupper Lake, NY | 3,683 | 2,056 | 2.3
Turlock, CA | 79,203 | 27,325 | 16.9
Tuscaloosa, AL | 156,450 | 71,635 | 88.2
Tuscola, IL | 4,942 | 2,344 | 3.0
Tuskegee, AL | 9,003 | 4,332 | 8.2
Twentynine Palms North, CA | 11,665 | 1,782 | 2.8
Twentynine Palms, CA | 12,881 | 6,113 | 6.8
Twin Falls, ID | 58,808 | 22,844 | 22.1
Twin Lakes, WI—IL | 12,603 | 6,404 | 9.5
Tybee Island, GA | 3,316 | 3,121 | 2.8
Tyler, TX | 131,028 | 55,860 | 81.5
Tyrone, PA | 10,442 | 4,719 | 6.1
Ukiah, CA | 28,987 | 11,540 | 13.2
Ulysses, KS | 5,865 | 2,314 | 2.8
Union City, IN—OH | 5,079 | 2,465 | 2.6
Union City, TN | 10,605 | 4,878 | 8.2
Union Grove, WI | 5,899 | 2,110 | 3.7
Union, MO | 12,019 | 4,961 | 7.5
Union, SC | 9,729 | 4,820 | 9.2
Uniontown, PA | 32,560 | 15,868 | 27.0
Upper Sandusky, OH | 6,628 | 3,139 | 4.8
Urbana, MD | 12,966 | 4,093 | 3.5
Urbana, OH | 11,122 | 5,477 | 6.5
Utica, NY | 119,059 | 52,462 | 52.0
Utuado, PR | 13,008 | 6,234 | 11.3
Uvalde, TX | 15,926 | 6,182 | 7.4
Vacaville, CA | 101,027 | 35,582 | 21.6
Vail, AZ | 12,835 | 4,690 | 5.8
Vail, CO | 6,080 | 8,070 | 5.1
Valdosta, GA | 76,769 | 32,392 | 41.3
Vallejo, CA | 175,132 | 63,277 | 39.6
Valley City, ND | 6,547 | 3,386 | 3.7
Valley—Lanett, AL—GA | 20,466 | 9,528 | 18.1
Valparaiso—Shorewood Forest, IN | 51,867 | 22,154 | 33.6
Van Wert, OH | 11,069 | 5,072 | 6.2
Vandalia, IL | 8,110 | 2,927 | 6.5
Veneta, OR | 6,987 | 2,693 | 4.7
Vermillion, SD | 11,659 | 4,626 | 4.0
Vernal, UT | 19,620 | 7,748 | 15.7
Vernon, TX | 9,524 | 4,516 | 5.8
Vero Beach—Sebastian, FL | 174,292 | 95,595 | 106.1
Versailles, KY | 16,855 | 7,132 | 7.9
Vicksburg, MS—LA | 25,888 | 12,760 | 24.3
Victoria, TX | 65,986 | 28,572 | 33.6
Victorville—Hesperia—Apple Valley, CA | 355,816 | 110,834 | 131.8
Vidalia, GA | 13,709 | 6,238 | 15.4
Vieques (Vieques Municipio), PR | 6,530 | 4,181 | 5.5
Villa Rica, GA | 23,202 | 8,744 | 19.2
Village of Four Seasons, MO | 7,489 | 9,467 | 19.1
Village of Oak Creek (Big Park), AZ | 6,128 | 4,354 | 5.3
Ville Platte, LA | 8,097 | 3,992 | 4.9
Vincennes, IN | 19,800 | 9,176 | 11.8
Vineland, NJ | 87,226 | 35,033 | 57.0
Vineyard Haven—Edgartown—Oak Bluffs, MA | 14,064 | 11,427 | 16.6
Vinita, OK | 5,068 | 2,480 | 4.7
Vinton, IA | 4,780 | 2,187 | 2.8
Virginia Beach—Norfolk, VA | 1,451,578 | 609,066 | 481.7
Virginia, MN | 12,724 | 6,916 | 6.7
Viroqua, WI | 3,987 | 2,063 | 2.0
Visalia, CA | 160,578 | 53,821 | 37.7
Wabash, IN | 10,254 | 4,965 | 6.0
Waco, TX | 192,844 | 79,136 | 89.9
Waconia, MN | 13,048 | 4,835 | 4.6
Wadena, MN | 4,110 | 2,043 | 2.6
Wadesboro, NC | 4,903 | 2,360 | 6.0
Wagoner, OK | 7,470 | 3,325 | 5.4
Wahoo, NE | 4,782 | 2,000 | 2.2
Wahpeton, ND—MN | 11,290 | 5,193 | 7.1
Waikoloa Village, HI | 6,824 | 3,222 | 5.9
Walden, NY | 15,784 | 6,127 | 11.6
Waldorf, MD | 118,601 | 42,930 | 59.4
Waldport, OR | 5,394 | 4,224 | 5.5
Wales, WI | 5,364 | 2,126 | 6.0
Walhalla, SC | 5,392 | 2,415 | 5.7
Walla Walla, WA—OR | 50,013 | 20,109 | 23.9
Walnut Ridge, AR | 6,540 | 2,986 | 5.2
Walterboro, SC | 9,229 | 4,246 | 8.1
Wamego, KS | 4,899 | 2,079 | 2.3
Wapakoneta, OH | 10,849 | 4,774 | 5.6
Wapato, WA | 7,071 | 1,995 | 2.6
Ware, MA | 5,662 | 2,828 | 3.2
Warner Robins, GA | 141,132 | 58,015 | 88.3
Warren, AR | 5,278 | 2,590 | 6.4
Warren, PA | 14,294 | 7,159 | 7.8
Warrensburg, MO | 19,934 | 8,557 | 8.5
Warrenton, MO | 9,398 | 4,018 | 6.0
Warrenton—New Baltimore, VA | 24,437 | 8,916 | 17.2
Warsaw, IN | 29,904 | 12,541 | 23.7
Warwick, NY | 7,084 | 3,394 | 2.9
Wasco, CA | 22,235 | 6,271 | 3.4
Waseca, MN | 9,211 | 3,808 | 3.8
Washington Court House, OH | 15,029 | 6,920 | 7.3
Washington, IA | 6,846 | 3,035 | 3.3
Washington, IN | 12,920 | 5,559 | 6.8
Washington, MO | 14,616 | 6,620 | 7.9
Washington, NC | 16,509 | 8,268 | 16.7
Washington, NJ | 10,138 | 4,308 | 4.1
Washington—Arlington, DC—VA—MD | 5,174,759 | 2,042,623 | 1,294.5
Wasilla—Knik-Fairview—North Lakes, AK | 53,444 | 20,504 | 57.6
Waterbury, CT | 199,317 | 83,605 | 92.4
Waterford, CA | 9,746 | 2,922 | 2.0
Waterloo, IA | 114,139 | 51,470 | 63.7
Waterloo, IL | 9,933 | 4,305 | 5.4
Watertown, NY | 51,832 | 23,084 | 32.0
Watertown, SD | 20,643 | 9,805 | 12.4
Watertown, WI | 22,712 | 9,767 | 10.5
Waterville, ME | 25,529 | 12,264 | 16.9
Watford City, ND | 6,687 | 3,796 | 8.3
Watseka, IL | 4,671 | 2,444 | 2.9
Watsonville, CA | 68,668 | 19,042 | 14.7
Wauchula, FL | 9,790 | 3,931 | 6.2
Waupaca, WI | 8,293 | 4,379 | 8.9
Waupun, WI | 11,673 | 3,889 | 4.4
Wausau, WI | 77,429 | 34,753 | 48.7
Wauseon, OH | 7,623 | 3,204 | 5.1
Waverly, IA | 9,159 | 3,661 | 5.6
Waverly, OH | 4,969 | 2,683 | 4.0
Waycross, GA | 24,985 | 11,144 | 24.9
Wayland, MI | 4,957 | 2,007 | 3.4
Wayne, NE | 5,980 | 2,325 | 3.1
Waynesboro, GA | 6,103 | 2,701 | 5.9
Waynesboro, PA—MD | 22,267 | 10,184 | 11.0
Waynesburg, PA | 8,754 | 3,117 | 4.0
Waynesville, NC | 24,285 | 14,359 | 27.6
Weatherford, OK | 12,076 | 5,519 | 6.3
Weatherford, TX | 48,112 | 19,274 | 38.7
Webster City, IA | 7,606 | 3,642 | 4.4
Weiser, ID—OR | 5,599 | 2,332 | 2.4
Wellington, CO | 11,071 | 3,936 | 3.2
Wellington, KS | 7,398 | 3,565 | 4.4
Wellington, OH | 4,783 | 2,160 | 2.8
Wellston, OH | 5,655 | 2,604 | 4.0
Wellsville, NY | 5,339 | 2,667 | 3.6
Wenatchee, WA | 78,142 | 30,561 | 32.6
Wendell, NC | 8,915 | 3,358 | 4.2
West Bend, WI | 34,552 | 15,486 | 17.1
West Columbia, TX | 5,888 | 2,537 | 3.7
West Frankfort, IL | 7,935 | 4,110 | 4.7
West Jefferson—Lake Darby, OH | 8,828 | 3,391 | 5.1
West Milford, NJ—NY | 17,659 | 8,193 | 14.2
West Milton, OH | 4,646 | 2,117 | 2.0
West Plains, MO | 11,852 | 5,579 | 10.3
West Point, MS | 8,134 | 3,807 | 6.5
West Point—Highland Falls, NY | 12,156 | 3,256 | 3.9
West Salem, WI | 5,557 | 2,466 | 3.2
West Wendover, NV—UT | 5,238 | 1,957 | 7.4
Westerly, RI—CT | 30,955 | 17,606 | 25.7
Westminster, MD | 40,040 | 15,792 | 26.4
Weston, WV | 4,430 | 2,346 | 2.0
Westville, IN | 5,189 | 1,099 | 2.1
Wetumpka, AL | 6,488 | 2,510 | 4.4
Wharton, TX | 8,526 | 3,907 | 4.7
Wheeling, WV—OH | 57,695 | 30,319 | 36.8
White House, TN | 15,587 | 6,077 | 12.9
White Rock, NM | 5,169 | 2,131 | 2.1
Whitefish, MT | 7,898 | 4,733 | 6.2
Whitehall, MI | 8,678 | 4,196 | 8.6
Whitehouse, TX | 9,139 | 3,272 | 5.2
Whiteman AFB—Knob Noster, MO | 5,577 | 2,264 | 7.3
Whiteville, NC | 5,216 | 2,613 | 4.9
Whitewater, WI | 14,544 | 5,300 | 4.6
Wichita Falls, TX | 97,039 | 42,923 | 50.8
Wichita, KS | 500,231 | 214,740 | 226.8
Wickenburg, AZ | 4,801 | 2,826 | 4.7
Wildwood, FL | 13,899 | 5,717 | 12.8
Wilkesboro—North Wilkesboro, NC | 19,890 | 9,160 | 33.3
Willard, MO | 6,854 | 2,604 | 8.7
Willard, OH | 6,666 | 2,966 | 3.6
Williams, CA | 5,558 | 1,767 | 2.0
Williamsburg, KY | 6,365 | 2,395 | 5.2
Williamsburg, VA | 89,585 | 38,974 | 69.9
Williamsport, PA | 55,344 | 25,810 | 27.7
Williamston, MI | 4,850 | 2,181 | 3.2
Williamston, NC | 5,522 | 2,815 | 4.8
Williamston, SC | 10,350 | 4,446 | 10.2
Willimantic, CT | 24,332 | 9,723 | 12.8
Williston, ND | 29,510 | 14,641 | 21.9
Willits, CA | 7,552 | 3,162 | 4.4
Willmar, MN | 21,586 | 8,853 | 13.2
Willows, CA | 7,578 | 2,960 | 2.7
Wilmington, IL | 6,388 | 2,836 | 3.9
Wilmington, NC | 255,329 | 126,576 | 142.2
Wilmington, OH | 12,546 | 5,625 | 9.5
Wilmore, KY | 5,727 | 1,861 | 1.8
Wilson, NC | 48,326 | 22,724 | 27.7
Winchendon, MA | 4,866 | 2,122 | 2.3
Winchester, IN | 4,797 | 2,348 | 2.9
Winchester, KY | 26,253 | 11,608 | 14.4
Winchester, TN | 12,702 | 6,016 | 12.9
Winchester, VA | 83,377 | 33,248 | 42.2
Wind Lake, WI | 4,856 | 2,070 | 3.5
Winder, GA | 50,189 | 17,820 | 51.7
Winfield, KS | 11,617 | 5,173 | 7.0
Winnemucca, NV | 10,546 | 4,664 | 7.2
Winnfield, LA | 4,671 | 2,341 | 4.5
Winnsboro, LA | 5,142 | 2,195 | 3.2
Winnsboro, SC | 4,710 | 2,399 | 3.9
Winona, MN | 29,633 | 13,461 | 13.3
Winslow, AZ | 7,667 | 3,320 | 3.6
Winsted, CT | 7,804 | 4,289 | 6.1
Winston-Salem, NC | 420,924 | 187,144 | 310.8
Winter Haven, FL | 253,251 | 112,523 | 142.7
Winters, CA | 7,073 | 2,528 | 1.6
Winterset, IA | 5,077 | 2,359 | 2.3
Wisconsin Rapids, WI | 29,550 | 13,972 | 21.8
Wise—Norton, VA | 8,913 | 4,452 | 10.9
Woodburn, OR | 27,577 | 8,921 | 7.6
Woodlake, CA | 7,514 | 2,263 | 1.9
Woodland Park, CO | 11,548 | 5,647 | 9.3
Woodland, CA | 61,133 | 21,666 | 12.8
Woodland, WA | 7,217 | 2,593 | 4.4
Woodmont, GA | 6,673 | 2,281 | 5.2
Woodstock, IL | 25,298 | 10,243 | 9.3
Woodstock, VA | 5,852 | 2,572 | 3.9
Woodward, OK | 11,458 | 5,737 | 9.1
Wooster, OH | 32,449 | 14,287 | 21.7
Worcester, MA—CT | 482,085 | 196,132 | 260.3
Worland, WY | 4,889 | 2,525 | 3.0
World Golf Village, FL | 19,679 | 7,492 | 13.9
Worthington, MN | 13,800 | 4,710 | 5.5
Worth—Lexington, MI | 3,310 | 3,668 | 4.2
Wrightwood, CA | 3,927 | 2,208 | 1.4
Wynne, AR | 7,564 | 3,383 | 5.5
Wytheville, VA | 7,154 | 3,784 | 6.0
Xenia, OH | 26,614 | 11,923 | 11.4
Yakima, WA | 133,145 | 51,147 | 55.8
Yankton, SD | 16,022 | 7,072 | 8.5
Yauco, PR | 63,885 | 30,548 | 34.9
Yazoo City, MS | 15,060 | 4,931 | 9.2
Yelm, WA | 14,924 | 5,099 | 7.7
Yoakum, TX | 5,598 | 2,473 | 3.2
York, NE | 7,968 | 3,735 | 4.7
York, PA | 238,549 | 97,643 | 113.1
York, SC | 8,631 | 3,573 | 6.5
Youngstown, OH | 320,901 | 153,376 | 196.0
Yreka, CA | 7,617 | 3,591 | 5.3
Yuba City, CA | 125,706 | 42,911 | 30.0
Yucca Valley, CA | 18,293 | 8,224 | 11.3
Yuma, AZ—CA | 135,717 | 70,358 | 53.0
Zachary, LA | 16,600 | 6,388 | 11.4
Zanesville, OH | 42,301 | 20,014 | 28.3
Zapata—Medina, TX | 10,942 | 4,642 | 5.0
Zebulon, NC | 8,158 | 3,149 | 6.1
Zephyrhills, FL | 55,133 | 32,009 | 34.1
Zimmerman, MN | 6,360 | 2,345 | 3.3

B. Geographic Products

By the end of 2022, products related to the 2020 Census urban areas will be made available in conjunction with or soon after the publication of this Notice. For more information about the Census Bureau's urban and rural classification and urban area product distribution timeline, see https://www.census.gov/programs-surveys/geography/guidance/geo-areas/urban-rural.html.

Clarifications and Additional Information Regarding Published Criteria

This section of the Notice provides clarifications and additional information regarding the 2020 Census urban area criteria published in the Federal Register on March 24, 2022 (87 FR 16706). These clarifications and information are provided in response to questions received after the publication of the 2020 Census urban area criteria and to address necessary issues identified during the process of delineating the 2020 Census urban areas. Some issues identified during the delineation process interactive review conducted by Census Bureau subject matter experts were resolved via the addition, removal, or transfer of census blocks to or from urban areas.

The clarifications and additional information regarding the criteria published in the Federal Register on March 24, 2022, Urban Area Criteria for the 2020 Census—Final Criteria (87 FR 16706), are as follows:

A. Identification of Initial Urban Cores

1. In Section V, subsection B, when referring to the identification of urban block agglomerations, clarification is necessary to differentiate the term `agglomerations' as it is used in this section from the Urban Area Agglomerations (UAA) defined in Section V, subsection B.9. This first use of the term `agglomerations' in Section V, subsection B describes a collection of census blocks representing densely settled territory, whereas the UAA described in Section B, subsection B.9 is a collection of census blocks that qualify as a UAA according to the specific criteria described in Section B, subsection B.9.

2. In Section V, subsection B, the Census Bureau clarifies that urban block agglomerations and cores of noncontiguous urban territory can consist of either a single qualifying census block or a collection of multiple qualifying census blocks when qualifying via criteria based on housing unit density.

3. Section V, subsection B, introduces the 1,275 housing units per square mile (HPSM) minimum threshold to identify the presence of higher-density territory representing an urban nucleus. In addition to this minimum threshold, a high-density nucleus must also meet the additional criteria described in Section V, subsection B.9.

4. In Section V, subsection B.1, the criteria define Eligible Block Aggregations (EBAs). To differentiate these geographic entities from other criteria referring to `aggregations' or `agglomerations', the Census Bureau will now refer to EBAs as Eligible Block Areas. This clarification applies to all subsequent references to EBAs in this Notice and the Urban Area Criteria for the 2020 Census—Final Criteria (87 FR 16706).

5. Section V, subsection B.1 provides the specific criteria for identifying EBAs based on housing unit density, amount of impervious surface present, census block shape, adjacency, presence of group quarters (GQ), and/or population density. The Census Bureau clarifies that an EBA can consist of a single census block, but only in situations where the census block qualifies via the housing unit density criterion.

6. In Section V, subsection B.1.d, the Census Bureau clarifies that in addition to containing a GQ and having a population density of at least 500 people per square mile (PPSM), the census block must also be adjacent to other census blocks qualifying as an EBA for its inclusion in that EBA.

7. In Section V, subsection B.1 the Census Bureau modifies the criteria to recognize that census blocks qualifying as urban via the impervious surface criteria are added to an initial urban core during the later iterations of the delineation. This addition allows census blocks located on the edge of initial urban cores to be reviewed by Census Bureau subject matter experts to determine whether their classification as urban is appropriate. This review also considers census blocks for removal if they have zero population and zero housing units, do not clearly contain land cover associated with an urban built environment, and are not associated with a potential hop or jump connection. If the census blocks do have the potential to contribute to a hop or jump connection, the census blocks still are eligible for removal if removal would not extend a hop connection beyond 0.5 miles or a jump connection beyond 1.5 miles.

8. In addition, Census Bureau subject matter experts conduct a targeted review of urban census blocks with a significantly disproportionate amount of water compared to its land territory qualifying as belonging to an urban area. The use of land area only in determining the qualifying housing and population density threshold can create conditions in which the census block contains little residential development constrained to a limited amount of land when compared to the much larger amount of water area within the census block and thus may not appropriately qualify as urban. The universe of this review includes census blocks containing more water than land area and qualifying as part of an initial urban core through any of the criteria based on housing units or population. Census Bureau subject matter experts determine the urban status of these census blocks based on the character of the local water feature and/or shoreline as well as the site and situation characteristics with respect to the surrounding urban land cover.

B. Inclusion of Noncontiguous Territory via Hops and Jumps

1. Section V, subsection B.2 describes the eligibility requirements for census blocks to be added to an initial urban core via a hop or jump. The Census Bureau clarifies that remaining EBAs created in Section V, subsection B.1 that do not contain an initial urban core at this step in the delineation, but do contain at least ten housing units or at least one census block that also contains at least one GQ and has a population density of at least 500 PPSM, remain eligible for inclusion in an initial urban core via a hop or jump.

2. In Section V, subsection B.2, the Census Bureau also provides additional clarification for the criteria designed to add noncontiguous territory via hop connections. Specifically, the connection of EBAs via hops is an automated process starting with the EBA with the lowest number of housing units and then continuing in ascending order until all available hop connections are exhausted.

3. In Section V, subsection B.2, the Census Bureau modifies the criteria to include review by Census Bureau subject matter experts in cases where the removal of an EBA to which two other EBAs made either a successful hop or jump results in an intervening distance greater than 1.5 miles. The intent of this review is to determine if retention of the noncontiguous territory is appropriate.

C. Inclusion of Noncontiguous Territory Separated by Exempted Territory

1. Section V, subsection B.3 includes the criteria for the identification of exempted territory (ET) over which hop and jump connections can be extended. The Census Bureau adds that, for any ET to be considered for the extension of a hop or jump connection, open water must exist on both sides of the road/roadbed at some point as depicted in the National Land Cover Database (NLCD), Coastal Change Analysis Program (C-CAP) High Resolution Land Cover, and/or Census Bureau's Master Address File/Topologically Integrated Geographic Encoding and Referencing (MAF/TIGER) Database (MTDB).

2. In Section V, subsection B.3, the Census Bureau further clarifies that, for the open water criteria used in determining the extension of hops or jumps via ET, the total road connection length over open water between qualifying urban territory must be an unbroken distance of at least 150 feet.

3. In addition, after the open water requirements are met in determining the eligibility of extended hop or jump connections across ET, other wetland land cover classes provided in the NLCD or C-CAP along the same road connection may be considered for exemption provided that the wetland classes are located on both sides of the road.

4. In Section V, subsection B.3, the Census Bureau acknowledges additional road features, to include multilane roads. To augment the definition, the Census Bureau considers medians between multilane road connections as part of the roadbed if the medians do not include any potentially addressable structures and the total roadbed is less than 500 feet in width, not including ET.

5. In Section V, subsection B.3, the Census Bureau adds that, when determining the location of ET with respect to hop and jump extensions, any potentially addressable structures located between a roadbed and territory classified as open water or other wetlands per the NLCD, C-CAP, or MTDB disqualify the territory containing these structures from being considered ET.

D. Low-Density Fill

1. In Section V, subsection B.4, the Census Bureau clarifies the conditions in which an EBA will be removed from the associated Core EBA after the low-density fill is added to Core EBAs. After the low-density fill is added, any EBA with at least 50 housing units will remain in the associated Core EBA. Additionally, any EBA with at least one census block containing a GQ and with at least 500 PPSM will also remain in the associated Core EBA. All other EBAs will be removed from the associated Core EBA after the low-density fill criteria are complete.

E. Inclusion of Enclaves

1. In Section V, subsection B.6, clarification of the criteria designed for enclaves within an EBA or Core EBA is necessary to indicate that not all coordinate pairings are examined by the delineation software. As a result, Census Bureau subject matter experts may add additional census blocks to fill an enclave where appropriate.

F. Inclusion of Indentations

1. In Section V, subsection B.7, clarification of the criteria designed to include territory that forms an indentation of an EBA or Core EBA is necessary to indicate that not all coordinate pairings are examined by the delineation software. As a result, Census Bureau subject matter experts may add additional census blocks to fill an indentation where appropriate.

G. Merging of Eligible Block Aggregations

1. In Section V, subsection B.8, the Census Bureau adds that the merging of Core EBAs is only possible if at least one Core EBA contains a high-density nucleus and another does not. The full set of criteria for identifying a high-density nucleus is described in Section V, subsection B.9.a, B.9.b, and B.9.c.

H. Identification of Urban Area Agglomerations (UAA)

1. In Section V, subsection B.9, the criteria for identifying high-density nuclei are noted twice. The Census Bureau clarifies the full criteria used to identify high-density nuclei are those described by Section V, subsections B.9.a, B.9.b, and B.9.c in full.

2. In Section V, subsection B.9, additional clarification is necessary to indicate a high-density nucleus can consist of a single census block meeting the criteria described by Section V, subsections B.9.a, B.9.b, and B.9.c.

I. Splitting Large Agglomerations

1. In Section V, subsection B.10, the Census Bureau clarifies that review by Census Bureau subject matter experts is conducted to determine the most appropriate outcome of the use of commuter-based partitions derived from the application of the unsupervised Leiden Algorithm to Longitudinal Employer-Household Dynamics Origin-Destination Employment Statistics (LODES) worker-flow data in determining the boundary between urban areas. This review includes the examination of anomalous noncontiguous urban boundaries as well as newly created urban areas embedded within a previously existing urban area to determine if boundary modification is necessary to ensure territory qualifying as urban is associated with the most appropriate urban area.

J. Assigning Urban Area Titles

1. Section V, subsection B.11 provides the criteria by which urban area titles (names) are defined. The Census Bureau clarifies that the final names are the result of Census Bureau subject matter expert review where the most appropriate urban name is left ambiguous by the stated criteria. The intent of this review is to assign each urban area the most succinct and locatable name based on historical context, familiarity, and best representation of the extent of the urban area.

2. In Section V, subsection B.11, an additional criterion is required to indicate that all population and housing unit requirements for places (incorporated places and census designated places (CDPs)) and Minor Civil Divisions (MCDs) apply to the portion of the entity's housing units and population located within the specific urban area being named.

3. Section V, subsection B.11 requires additional clarification to further define MCDs as governmental MCDs. Additionally, the Census Bureau clarifies that only the MCD housing unit and population counts not located within an incorporated place or CDP are considered in urban area name assignment.

4. In Section V, subsection B.11, the Census Bureau clarifies secondary names are assigned to an urban area after a primary name is determined based on the amount of population of a place of at least 2,500 residing within the high-density nuclei of the urban area.

5. In Section V, subsection B.11, the Census Bureau further clarifies that MCDs are also eligible entities in addition to places when determining secondary names for an urban area. For this purpose, the Census Bureau clarifies that only the housing unit and population counts not located within an incorporated place or CDP are considered.

K. Zero Housing Unit Census Blocks Review

1. The Census Bureau modifies the criteria to include a review by Census Bureau subject matter experts of census blocks with zero housing units that may be associated with an urban area after all activities related to all other steps in the 2020 urban area delineation process have been completed. For this review, remaining zero housing unit census blocks meeting the requirements set forth to fill enclaves (Section V, subsection B.6) and indentations (Section V, subsection B.7) are examined to determine their final designation as urban.

2. Census Bureau subject matter experts conduct a further review of census blocks with zero housing units which are also associated with water features, road medians, or right-of-way passages to determine if their inclusion in an urban area reduces the amount of noncontiguous urban territory without extending or having a significant impact on the general outer boundary of an urban area.

3. Similar to the review of census blocks located on the edge of initial urban cores in Section V, subsection B.1, Census Bureau subject matter experts conduct a review of zero housing unit census blocks for removal. An identified census block is considered for removal from an urban area if the census block does not clearly contain land cover associated with an urban built environment and is not associated with a potential hop or jump connection. If the census block does have the potential to contribute to a hop or jump connection, then the census block still is eligible for removal if removal would not extend a hop connection beyond 0.5 miles or a jump connection beyond 1.5 miles.

L. Final Urban Area Review

1. The Census Bureau modifies the criteria to add that Census Bureau subject matter experts conduct a final review of the census blocks associated with any enclaves (Section V, subsection B.6) or indentations (Section V, subsection B.7) created by edits during all preceding reviews of urban areas throughout the delineation process. During this final review, Census Bureau subject matter experts assess enclaves created solely through the addition of census blocks during previous reviews if the area of the enclave is less than 2.5 square miles. Similarly, in the final review, Census Bureau subject matter experts assess indentations created solely through the addition of census blocks during previous reviews if the area of the indentation is less than 1.5 square miles.

2. During this final review, census blocks with a housing density of at least 150 HPSM located near the edge of an urban area are investigated by Census Bureau subject matter experts to determine if inclusion in an urban area is appropriate based on its size, shape, adjacency, and disposition relative to an urban area or areas, degree of association (accessibility) with an urban area with regard to housing, and presence of new construction.

3. The Census Bureau adds further review by Census Bureau subject matter experts to determine the final urban classification of nonresidential census blocks with a high degree of urban land cover proximate to an urban area. The Census Bureau investigates census blocks that meet the impervious surface criteria described in Section V, subsections B.1.b, B.1.c, are within 0.5 miles of an urban area, are accessible via a road distance no greater than 1.5 miles, and have an area of at least 0.15 square miles. These census blocks are reviewed to determine their final classification as belonging to an urban area based on site and situation characteristics with respect to urban land cover.

4. The Census Bureau adds a final review of census blocks associated with airports by Census Bureau subject matter experts. Census blocks proximate to airports partially qualifying as urban via the criteria described in Section V, subsection B.5 are examined for inclusion in the urban area to which the airport is most closely associated. Additional census blocks containing airports (partially or in whole) not previously identified using the criteria described in Section V, subsection B.5 are also examined by Census Bureau subject matter experts for final urban status determination with respect to proximity and association to an urban area. In all cases, the Census Bureau strives to minimize the partial qualification of airports as urban.

5. The Census Bureau adds a final review of census blocks representing water shorelines and which do not qualify as urban and create gaps in urban areas along bodies of water similar to the water enclaves described by the criteria presented in Section V, subsections B.6.d and B.6.e. Census Bureau subject matter experts investigate these census blocks not previously classified as urban but surrounded partially by water and partially by land classified as urban and whose length of adjacency with water is less than the length of the line of adjacency with land. Once identified, the Census Bureau subject matter experts determine their inclusion in an urban area based on the size of the gap, land cover within the gap, and the amount of shoreline already classified as belonging to the urban area.

6. The Census Bureau clarifies that the final review of urban area shorelines by Census Bureau subject matter experts also includes the targeted examination of census blocks proximate to an urban area within which shoreline facilities are located, but not previously qualified as urban. Determining whether these census blocks are ultimately included in an urban area is based on adjacency and connectivity to surrounding urban territory.

7. The Census Bureau adds in response to instances where a census block on the outer boundary of an urban area is included in the urban area because of high housing unit density, Census Bureau subject matter experts may change its urban designation if the evidence, in comparison to adjacent blocks, is significant enough to merit reclassification.

Robert L. Santos, Director, Census Bureau, approved the publication of this notification in the Federal Register.

Dated: December 20, 2022.
Shannon Wink,
Program Analyst, Policy Coordination Office, U.S. Census Bureau.

[FR Doc. 2022-28286 Filed 12-28-22; 8:45 am]

BILLING CODE 3510-07-P